ENVIRONMENTAL PROTECTION AGENCY

40 CFR Part 63

[EPA-HQ-OAR-2016-0243; FRL-10009-65-OAR]

RIN 2060-AO66

National Emission Standards for Hazardous Air Pollutants: Plywood and Composite Wood Products Residual Risk and Technology Review

AGENCY: Environmental Protection Agency (EPA).

ACTION: Final rule.

SUMMARY: This action finalizes the residual risk and technology review (RTR) conducted for the Plywood and Composite Wood Products (PCWP) source category regulated under national emission standards for hazardous air pollutants (NESHAP). In addition, the EPA is taking final action addressing periods of startup, shutdown and malfunction (SSM); adding electronic reporting; adding repeat emissions testing; and making technical and editorial changes. These final amendments include no revisions to the numerical emission limits in the rule based on the RTR. While the amendments do not result in reductions of emissions of hazardous air pollutants (HAP), this action results in improved monitoring, compliance, and implementation of the rule.

DATES: This final rule is effective on August 13, 2020. The incorporation by reference of certain publications listed in the rule is approved by the Director of the Federal Register as of August 13, 2020. The incorporation by reference of certain other publications listed in the rule was approved by the Director of the Federal Register as of February 16, 2006.

ADDRESSES: The U.S. Environmental Protection Agency (EPA) has established a docket for this action under Docket ID No. EPA-HQ-OAR-2016-0243. All documents in the docket are listed on the https://www.regulations.gov/ website. Although listed, some information is not publicly available, e.g., Confidential Business Information or other information whose disclosure is restricted by statute. Certain other material, such as copyrighted material, is not placed on the internet and will be publicly available only in hard copy form. Publicly available docket materials are available electronically through https://www.regulations.gov/. Out of an abundance of caution for members of the public and our staff, the EPA Docket Center and Reading Room was closed to public visitors on March 31, 2020, to reduce the risk of transmitting COVID-19. Our Docket Center staff will continue to provide remote customer service via email, phone, and webform. There is a temporary suspension of mail delivery to the EPA, and no hand deliveries are currently accepted. For further information and updates on EPA Docket Center services and the current status, please visit us online at https://www.epa.gov/dockets.

FOR FURTHER INFORMATION CONTACT: For questions about this final action, contact Ms. Katie Hanks, Sector Policies and Programs Division (E143-03), Office of Air Quality Planning and Standards, U.S. Environmental Protection Agency, Research Triangle Park, North Carolina 27711; telephone number: (919) 541-2159; fax number: (919) 541-0516; and email address: hanks.katie@epa.gov. For specific information regarding the risk modeling methodology, contact Mr. James Hirtz, Health and Environmental Impacts Division (C539-02), Office of Air Quality Planning and Standards, U.S. Environmental Protection Agency, Research Triangle Park, North Carolina 27711; telephone number: (919) 541-0881; fax number: (919) 541-0840; and email address: hirtz.james@epa.gov. For information about the applicability of the NESHAP to a particular entity, contact Mr. John Cox, Office of Enforcement and Compliance Assurance, U.S. Environmental Protection Agency, WJC South Building, 1200 Pennsylvania Ave. NW, Washington, DC 20460; telephone number: (202) 564-1395; and email address: cox.john@epa.gov.

SUPPLEMENTARY INFORMATION: Preamble acronyms and abbreviations. Multiple acronyms and terms are used in this preamble. While this list may not be exhaustive, to ease the reading of this preamble and for reference purposes, the EPA defines the following terms and acronyms here:

AEGL acute exposure guideline level

CAA Clean Air Act

CDX Central Data Exchange

CEDRI Compliance and Emissions Data Reporting Interface

CEMS continuous emission monitoring systems

CFR Code of Federal Regulations

CMS continuous monitoring systems

EAV equivalent annualized value

EPA Environmental Protection Agency

ERT Electronic Reporting Tool

HAP hazardous air pollutants(s)

HQ hazard quotient

ICR Information Collection Request

km kilometer

MACT maximum achievable control technology

NESHAP national emission standards for hazardous air pollutants

NTTAA National Technology Transfer and Advancement Act

OMB Office of Management and Budget

OSHA Occupational Safety and Health Administration

PCWP Plywood and Composite Wood Products

PDF portable document format

PRA Paperwork Reduction Act

PV present value

RATA relative accuracy test audit

RCO regenerative catalytic oxidizer

REL recommended exposure limit

RFA Regulatory Flexibility Act

RIN Regulatory Information Number

RTC Response to Comments

RTO regenerative thermal oxidizer

RTR residual risk and technology review

SSM startup, shutdown, and malfunction

the Court United States Court of Appeals for the District of Columbia Circuit

TOSHI target organ-specific hazard index

tpy tons per year

UMRA Unfunded Mandates Reform Act

Background information. On September 6, 2019, the EPA proposed revisions to the PCWP NESHAP based on our RTR. See 84 FR 47074. In this action, the EPA is finalizing decisions and revisions for the rule. We summarize some of the more significant comments we timely received regarding the proposed rulemaking and provide summaries of our responses in this preamble. A summary of all public comments on the proposal and the EPA's specific responses to those comments is available in the Response to Comments (RTC) document, National Emission Standards for Hazardous Air Pollutants: Plywood and Composite Wood Products (40 CFR part 63, subpart DDDD) Residual Risk and Technology Review, Final Amendments, Responses to Public Comments on September 6, 2019 Proposal, Docket ID No. EPA-HQ-OAR-2016-0243. A “track changes” version of the regulatory language that incorporates the changes in this action is available in the docket.

Organization of this document. The information in this preamble is organized as follows:

I. General Information

A. Does this action apply to me?

B. Where can I get a copy of this document and other related information?

C. Judicial Review and Administrative Reconsideration

II. Background

A. What is the statutory authority for this action?

B. What is the PCWP source category and how does the NESHAP regulate HAP emissions from the source category?

C. What changes did we propose for the PCWP source category in our September 6, 2019, proposal?

III. What is included in this final rule?

A. What are the final rule amendments based on the risk review for the PCWP source category?

B. What are the final rule amendments based on the technology review for the PCWP source category?

C. What are the final rule amendments addressing emissions during periods of SSM?

D. What other changes have been made to the NESHAP?

E. What are the effective and compliance dates of the standards?

IV. What is the rationale for our final decisions and amendments for the PCWP source category?

A. Residual Risk Review for the PCWP Source Category

B. Technology Review for the PCWP Source Category

C. SSM Provisions

D. Electronic Reporting

E. Repeat Emissions Testing

F. Biofilter Bed Temperature

G. Thermocouple Calibration

H. Non-HAP Coating Definition

I. Technical and Editorial Changes

J. Compliance Dates

V. Summary of Cost, Environmental, and Economic Impacts and Additional Analyses Conducted

A. What are the affected facilities?

B. What are the air quality impacts?

C. What are the cost impacts?

D. What are the economic impacts?

E. What are the benefits?

F. What analysis of environmental justice did we conduct?

G. What analysis of children's environmental health did we conduct?

VI. Statutory and Executive Order Reviews

A. Executive Orders 12866: Regulatory Planning and Review and Executive Order 13563: Improving Regulation and Regulatory Review

B. Executive Order 13771: Reducing Regulations and Controlling Regulatory Cost

C. Paperwork Reduction Act (PRA)

D. Regulatory Flexibility Act (RFA)

E. Unfunded Mandates Reform Act (UMRA)

F. Executive Order 13132: Federalism

G. Executive Order 13175: Consultation and Coordination With Indian Tribal Governments

H. Executive Order 13045: Protection of Children From Environmental Health Risks and Safety Risks

I. Executive Order 13211: Actions Concerning Regulations That Significantly Affect Energy Supply, Distribution, or Use

J. National Technology Transfer and Advancement Act (NTTAA) and 1 CFR part 51

K. Executive Order 12898: Federal Actions To Address Environmental Justice in Minority Populations and Low-Income Populations

L. Congressional Review Act (CRA)

I. General Information

A. Does this action apply to me?

Regulated entities. Categories and entities potentially regulated by this action are shown in Table 1 of this preamble.

Table 1—NESHAP and Industrial Source Categories Affected by This Final Action
NESHAP and source category | NAICS ¹ code
National Emission Standards for Hazardous Air Pollutants: Plywood and Composite Wood Products | 321999, 321211, 321212, 321219, 321213.
¹ North American Industry Classification System.

Table 1 of this preamble is not intended to be exhaustive, but rather to provide a guide for readers regarding entities likely to be affected by the final action for the source category listed. To determine whether your facility is affected, you should examine the applicability criteria in the appropriate NESHAP. If you have any questions regarding the applicability of any aspect of this NESHAP, please contact the appropriate person listed in the preceding FOR FURTHER INFORMATION CONTACT section of this preamble.

B. Where can I get a copy of this document and other related information?

In addition to being available in the docket, an electronic copy of this final action will also be available on the internet. Following signature by the EPA Administrator, the EPA will post a copy of this final action at: https://www.epa.gov/stationary-sources-air-pollution/plywood-and-composite-wood-products-manufacture-national-emission. Following publication in the Federal Register, the EPA will post the Federal Register version and key technical documents at this same website.

Additional information is available on the RTR website at https://www.epa.gov/stationary-sources-air-pollution/risk-and-technology-review-national-emissions-standards-hazardous. This information includes an overview of the RTR program and links to project websites for the RTR source categories.

C. Judicial Review and Administrative Reconsideration

Under Clean Air Act (CAA) section 307(b)(1), judicial review of this final action is available only by filing a petition for review in the United States Court of Appeals for the District of Columbia Circuit (the Court) by October 13, 2020. Under CAA section 307(b)(2), the requirements established by this final rule may not be challenged separately in any civil or criminal proceedings brought by the EPA to enforce the requirements.

Section 307(d)(7)(B) of the CAA further provides that only an objection to a rule or procedure which was raised with reasonable specificity during the period for public comment (including any public hearing) may be raised during judicial review. This section also provides a mechanism for the EPA to reconsider the rule if the person raising an objection can demonstrate to the Administrator that it was impracticable to raise such objection within the period for public comment or if the grounds for such objection arose after the period for public comment (but within the time specified for judicial review) and if such objection is of central relevance to the outcome of the rule. Any person seeking to make such a demonstration should submit a Petition for Reconsideration to the Office of the Administrator, U.S. EPA, Room 3000, WJC South Building, 1200 Pennsylvania Ave. NW, Washington, DC 20460, with a copy to both the person(s) listed in the preceding FOR FURTHER INFORMATION CONTACT section, and the Associate General Counsel for the Air and Radiation Law Office, Office of General Counsel (Mail Code 2344A), U.S. EPA, 1200 Pennsylvania Ave. NW, Washington, DC 20460.

II. Background

A. What is the statutory authority for this action?

Section 112 of the CAA establishes a two-stage regulatory process to address emissions of HAP from stationary sources. In the first stage, we must identify categories of sources emitting one or more of the HAP listed in CAA section 112(b) and then promulgate technology-based NESHAP for those sources. “Major sources” are those that emit, or have the potential to emit, any single HAP at a rate of 10 tons per year (tpy) or more, or 25 tpy or more of any combination of HAP. For major sources, these standards are commonly referred to as maximum achievable control technology (MACT) standards and must reflect the maximum degree of emission reductions of HAP achievable (after considering cost, energy requirements, and non-air quality health and environmental impacts). In developing MACT standards, CAA section 112(d)(2) directs the EPA to consider the application of measures, processes, methods, systems, or techniques, including, but not limited to, those that reduce the volume of or eliminate HAP emissions through process changes, substitution of materials, or other modifications; enclose systems or processes to eliminate emissions; collect, capture, or treat HAP when released from a process, stack, storage, or fugitive emissions point; are design, equipment, work practice, or operational standards; or any combination of the above.

For these MACT standards, the statute specifies certain minimum stringency requirements, which are referred to as MACT floor requirements, and which may not be based on cost considerations. See CAA section 112(d)(3). For new sources, the MACT floor cannot be less stringent than the emission control achieved in practice by the best-controlled similar source. The MACT standards for existing sources can be less stringent than floors for new sources, but they cannot be less stringent than the average emission limitation achieved by the best-performing 12 percent of existing sources in the category or subcategory (or the best-performing five sources for categories or subcategories with fewer than 30 sources). In developing MACT standards, the EPA must also consider control options that are more stringent than the floor under CAA section 112(d)(2). We may establish standards more stringent than the floor, based on the consideration of the cost of achieving the emissions reductions, any non-air quality health and environmental impacts, and energy requirements.

In the second stage of the regulatory process, the CAA requires the EPA to undertake two different analyses, which we refer to as the technology review and the residual risk review. Under the technology review, we must review the technology-based standards and revise them “as necessary (taking into account developments in practices, processes, and control technologies)” no less frequently than every 8 years, pursuant to CAA section 112(d)(6). Under the residual risk review, we must evaluate the risk to public health remaining after application of the technology-based standards and revise the standards, if necessary, to provide an ample margin of safety to protect public health or to prevent, taking into consideration costs, energy, safety, and other relevant factors, an adverse environmental effect. The residual risk review is required within 8 years after promulgation of the technology-based standards, pursuant to CAA section 112(f). In conducting the residual risk review, if the EPA determines that the current standards provide an ample margin of safety to protect public health, it is not necessary to revise the MACT standards pursuant to CAA section 112(f) and the EPA may readopt the MACT standards as residual risk standards.¹ For more information on the statutory authority for this rule, see 84 FR 47074 (September 6, 2019).

¹ The Court has affirmed this approach of implementing CAA section 112(f)(2)(A): NRDC v. EPA, 529 F.3d 1077, 1083 (D.C. Cir. 2008) (“If EPA determines that the existing technology-based standards provide an 'ample margin of safety,' then the Agency is free to readopt those standards during the residual risk rulemaking.”).

B. What is the PCWP source category and how does the NESHAP regulate HAP emissions from the source category?

The EPA originally promulgated the PCWP NESHAP on July 30, 2004. The standards are codified at 40 CFR part 63, subpart DDDD. The PCWP industry consists of facilities engaged in the production of PCWP and/or kiln-dried lumber. Plywood and composite wood products are manufactured by bonding wood material (fibers, particles, strands, etc.) or agricultural fiber, generally with resin under heat and pressure, to form a structural panel or engineered wood product. PCWP manufacturing facilities also include facilities that manufacture dry veneer and lumber kilns located at any facility. PCWP include (but are not limited to) plywood, veneer, particleboard, oriented strand board (OSB), hardboard, fiberboard, medium density fiberboard, laminated strand lumber, laminated veneer lumber, wood I-joists, kiln-dried lumber, and glue-laminated beams. As noted in the preamble to the proposed amendments, the PCWP source category covered by this MACT standard includes 230 major source facilities: 93 PCWP facilities, 121 lumber mills, and 16 facilities that produce both PCWP and lumber.

The affected source under the PCWP NESHAP is the collection of dryers, refiners, blenders, formers, presses, board coolers, and other process units associated with the manufacturing of PCWP. The NESHAP contains several compliance options for process units subject to the standards: (1) Installation and use of emissions control systems with an efficiency of at least 90 percent; (2) production-based limits that restrict HAP emissions per unit of product; and (3) emissions averaging that allows control of emissions from a group of sources collectively (at existing affected sources). These compliance options apply for the following process units: Fiberboard mat dryer heated zones (at new affected sources); green rotary dryers; hardboard ovens; press predryers (at new affected sources); pressurized refiners; primary tube dryers; secondary tube dryers; reconstituted wood product board coolers (at new affected sources); reconstituted wood product presses; softwood veneer dryer heated zones; rotary strand dryers; and conveyor strand dryers (zone one at existing affected sources, and zones one and two at new affected sources). In addition, the PCWP NESHAP includes work practice standards for dry rotary dryers, hardwood veneer dryers, softwood veneer dryers, veneer redryers, and group 1 miscellaneous coating operations (defined in 40 CFR 63.2292).

C. What changes did we propose for the PCWP source category in our September 6, 2019, proposal?

On September 6, 2019, the EPA published a proposed rulemaking in the Federal Register for the PCWP NESHAP, 40 CFR part 63, subpart DDDD, that took into consideration the RTR analyses. In the proposed rulemaking, we proposed revisions to the SSM provisions for the NESHAP in order to ensure that they are consistent with the decision of the Court in Sierra Club v. EPA, 551 F.3d 1019 (D.C. Cir. 2008), which vacated two provisions in EPA's 40 CFR part 63, subpart A—General Provisions, that exempted sources from the requirement to comply with otherwise applicable CAA section 112(d) emission standards during periods of SSM: 40 CFR 63.6(f)(1) and (h)(1). We also proposed various other changes, including addition of electronic reporting requirements, addition of repeat emissions testing requirements, revisions to parameter monitoring requirements, and various technical and editorial changes.

III. What is included in this final rule?

This action finalizes the EPA's determinations pursuant to the RTR provisions of CAA section 112 for the PCWP source category. This action also finalizes other changes to the NESHAP, including SSM provisions, electronic reporting, additional emissions testing requirements, and technical and editorial changes.

A. What are the final rule amendments based on the risk review for the PCWP source category?

The EPA proposed no changes to the PCWP NESHAP based on the risk review conducted pursuant to CAA section 112(f). We are finalizing our proposed determination that risks from the PCWP source category are acceptable, considering all of the health information and factors evaluated, and also considering risk estimation uncertainty. We are also finalizing our proposed determination that revisions to the current standards are not necessary to reduce risk to an acceptable level, to provide an ample margin of safety to protect public health, or to prevent an adverse environmental effect. As discussed further in section IV.A of this preamble, the EPA reviewed public comments and data revisions submitted during the public comment period but none of the information received affected our determinations. Therefore, we are not requiring additional controls in order to reduce risks and, thus, are not making any revisions to the existing standards under CAA section 112(f)(2). Instead, we are readopting the existing standards under CAA section 112(f)(2), while making other modifications under other authorities unrelated to risk.

B. What are the final rule amendments based on the technology review for the PCWP source category?

We determined that there are no developments in practices, processes, and control technologies that warrant revisions to the MACT standards for this source category. In the proposal, the EPA noted a development in resin systems used to produce PCWP at some facilities but found that facilities generally have not altered their HAP emission control strategies to date as a result of resin changes and that it is not necessary, or supported based on available data, at this time, to amend the current standards. The EPA considered comments received during the public comment period regarding our technology review, however, these comments contained no new data or other information that affected our determinations. Therefore, we are not finalizing revisions to the MACT standards under CAA section 112(d)(6). Section IV.B of this preamble provides further details on our conclusion with respect to the technology review.

C. What are the final rule amendments addressing emissions during periods of SSM?

In its 2008 decision in Sierra Club v. EPA, 551 F.3d 1019 (D.C. Cir. 2008), the Court vacated portions of two provisions in the EPA's CAA section 112 regulations governing the emissions of HAP during periods of SSM. Specifically, the Court vacated the SSM exemption contained in 40 CFR 63.6(f)(1) and (h)(1), holding that under section 302(k) of the CAA, emissions standards or limitations must be continuous in nature and that the SSM exemption violates the CAA's requirement that some CAA section 112 standards apply continuously.

The EPA has eliminated the SSM exemption in this rule. Consistent with Sierra Club v. EPA, the EPA has established standards in this rule that apply at all times. The standards that apply during normal operation have been extended to apply at all times including SSM in most instances. However, in this final rule, the EPA has established work practice standards for specific types of startup and shutdown events as described in section IV.C of this preamble. The EPA has also revised Table 10 of this rule (the General Provisions applicability table) in several respects as is explained in more detail in section IV.C of this preamble. For example, we have eliminated the incorporation of the General Provisions' requirement that sources develop SSM plans. We have also eliminated or revised certain recordkeeping and reporting requirements that are related to the SSM exemption as described in detail in the proposed rulemaking and summarized again in section IV.C of this preamble.

D. What other changes have been made to the NESHAP?

Other changes to the NESHAP include:

1. Electronic reporting. As discussed at proposal, the EPA is finalizing amendments to the reporting requirements in the rule to require electronic reporting for notifications of compliance status, compliance test reports, and semiannual reports. Electronic reporting is discussed further in section IV.D of this preamble.

2. Repeat emissions testing. As discussed at proposal, the EPA is finalizing amendments to Table 7 to subpart DDDD of part 63 to require repeat testing every 5 years for process units controlled with control devices other than biofilters. The first of the 5-year repeat tests will be required within 3 years of the effective date of the final amendments. Repeat emissions testing is discussed further in section IV.E of this preamble.

3. Revisions to parameter monitoring requirements. As discussed at proposal, the EPA is finalizing amendments to biofilter bed temperature provisions in 40 CFR 63.2262(m)(1) and the thermocouple calibration requirements in 40 CFR 63.2269. The biofilter bed temperature provisions are discussed further in section IV.F of this preamble and the thermocouple calibration requirements are discussed further in section IV.G of this preamble.

4. Revisions to the non-HAP coating definition. The EPA is finalizing amendments to the non-HAP coating definition in 40 CFR 63.2292 with changes from the proposed revision. The non-HAP coating definition is discussed further in section IV.H of this preamble.

5. Technical and editorial changes. The EPA is finalizing technical and editorial changes, as discussed further in section IV.I of this preamble.

E. What are the effective and compliance dates of the standards?

The revisions to the MACT standards being promulgated in this action are effective on August 13, 2020. The compliance date of the rule amendments for existing affected sources and other affected sources that commenced construction or reconstruction on or before September 6, 2019, is August 13, 2021. Affected sources that commenced construction or reconstruction after September 6, 2019, are new sources. New sources must comply with all of the standards immediately upon the effective date of the standard, August 13, 2020, or upon startup, whichever is later. All existing affected sources will have to continue to meet the current requirements of the NESHAP until the applicable compliance date of the amended rule.

Section IV.D of this preamble discusses electronic reporting and a semiannual reporting template that facilities must use within 1 year after it is posted in the EPA's Compliance and Emissions Data Reporting Interface (CEDRI). In addition, the EPA is finalizing new requirements to conduct repeat performance testing every 5 years for facilities using an add-on control system other than a biofilter (see section IV.E of this preamble). The first of the repeat performance tests must be conducted within 3 years after August 13, 2020, or within 60 months following the previous performance test, whichever is later.

IV. What is the rationale for our final decisions and amendments for the PCWP source category?

For each issue, this section provides a description of what was proposed and what is being finalized for the issue, the EPA's rationale for the final decisions and amendments, and a summary of key comments and responses. Comment summaries for all comments and the EPA's specific responses can be found in the RTC document, available in Docket ID No. EPA-HQ-OAR-2016-0243.

A. Residual Risk Review for the PCWP Source Category

1. What did we propose pursuant to CAA section 112(f) for the PCWP source category?

Pursuant to CAA section 112(f), the EPA conducted a risk review and presented the results for the review, along with our proposed decisions regarding risk acceptability and ample margin of safety, in the September 6, 2019, proposed rulemaking for the PCWP source category (84 FR 47074). The results of the risk assessment are presented briefly in Table 2 of this preamble and in the risk report titled Residual Risk Assessment for the Plywood and Composite Wood Products Source Category in Support of the 2019 Risk and Technology Review Proposed Rule, and sections III and IV of the proposal preamble (84 FR 47074, September 6, 2019) available in the docket for this action.

Table 2—Inhalation Risk Assessment Summary for Plywood and Composite Wood Products Source Category ¹
Number of facilities ² | Maximum individual cancer risk (in 1 million) ³: Based on . . .: Actual emissions level | Maximum individual cancer risk (in 1 million) ³: Based on . . .: Allowable emissions level | Population at increased risk of cancer ≥ 1-in-1 million: Based on . . .: Actual emissions level | Population at increased risk of cancer ≥ 1-in-1 million: Based on . . .: Allowable emissions level | Annual cancer incidence (cases per year): Based on . . .: Actual emissions level | Annual cancer incidence (cases per year): Based on . . .: Allowable emissions level | Maximum chronic noncancer TOSHI ⁴: Based on . . .: Actual emissions level | Maximum chronic noncancer TOSHI ⁴: Based on . . .: Allowable emissions level | Maximum screening acute noncancer HQ ⁵: Based on actual emissions level
233 | 30 | 30 | 204,000 | 230,000 | 0.03 | 0.03 | 0.8 | 0.8 | 4 (REL) 0.2 (AEGL-1)
¹ Based on actual and allowable emissions.
² Number of facilities evaluated in the risk assessment. Includes 230 operating facilities subject to 40 CFR part 63, subpart DDDD, plus three existing facilities that are currently closed but maintain active operating permits.
³ Maximum individual excess lifetime cancer risk due to HAP emissions from the source category.
⁴ Maximum target organ-specific hazard index (TOSHI). The target organ with the highest TOSHI for the PCWP source category is the respiratory system.
⁵ The maximum estimated acute exposure concentration was divided by available short-term threshold values to develop an array of hazard quotient (HQ) values. The acute HQ values shown use the lowest available acute threshold value, which in most cases is the recommended exposure limit (REL). When an HQ exceeds 1, the EPA also shows the HQ using the next lowest available acute dose-response value.

For the risk assessment conducted at proposal, the EPA estimated risks based on actual and allowable emissions from the PCWP source category. The results for the PCWP source category indicated that both the actual and allowable inhalation cancer risks to the individual most exposed are below the presumptive limit of acceptability of 100-in-1 million. The residual risk assessment for the PCWP category estimated cancer incidence rate at 0.03 cases per year (or one case every 33 years) based on both source category actual and allowable emissions. The estimated inhalation cancer risk to the individual most exposed to actual and allowable emissions from the source category was 30-in-1 million. The assessment showed that approximately 204,000 people faced an increased cancer risk equal to or above 1-in-1 million from source category actual emissions from 170 facilities. The number of people exposed to a cancer risk greater than 10-in-1 million from source category actual emissions is 650 people. The maximum chronic noncancer TOSHI due to inhalation exposures was less than 1 (0.8) for actual and allowable emissions from the source category. The results of the acute non-cancer refined analysis showed maximum acute HQs of 4 for acrolein and 2 for formaldehyde emissions based on the acute reference exposure level. Maximum cancer risk due to ingestion exposures estimated using health-protective risk screening assumptions are below 6-in-1 million for the Tier 2 fisher scenario and below 40-in-1 million for the Tier 2 rural gardener exposure scenario.² Considering all the health risk information and factors and the uncertainties discussed in the preamble to the proposed amendments (84 FR 47074, September 6, 2019), the EPA proposed that the risks posed by emissions from the PCWP source category are acceptable after implementation of the existing MACT standards.

² As explained in the preamble for the proposed rulemaking, these multipathway risk estimates would be further reduced with Tier 3 screening.

As directed by CAA section 112(f)(2), the EPA also conducted an analysis to determine if the current emission standards provide an ample margin of safety to protect public health. Under the ample margin of safety analysis, the EPA considers all health factors evaluated in the risk assessment and evaluates the cost and feasibility of available control technologies and other measures (including the controls, measures, and costs reviewed under the technology review) that could be applied to this source category to further reduce the risks (or potential risks) due to emissions of HAP identified in our risk assessment. The EPA did not identify methods for further reducing HAP emissions from the PCWP source category that would achieve meaningful risk reductions. Therefore, the EPA proposed that the current PCWP standards provide an ample margin of safety to protect public health and revision of the promulgated standards is not required. The EPA also concluded that an adverse environmental effect as a result of HAP emissions from this source category is not expected and, therefore, proposed that it is not necessary to set a more stringent standard to prevent, taking into consideration costs, energy, safety, and other relevant factors, an adverse environmental effect. The results of the EPA's residual risk analysis conducted according to CAA section 112(f)(2) were discussed in the preamble to the proposed rulemaking (84 FR 47074, September 6, 2019), in the risk report for the proposed rulemaking titled Residual Risk Assessment for the Plywood and Composite Wood Products Source Category in Support of the 2019 Risk and Technology Review Proposed Rule, Docket Item No. EPA-HQ-OAR-2016-0243-0179, and in the risk report for the final rule titled Residual Risk Assessment for the Plywood and Composite Wood Products Source Category in Support of the 2019 Risk and Technology Review Final Rule, in the docket for this action. The risk report for the final rule is unchanged from the risk report prepared for the proposed rulemaking.

2. How did the risk review change for the PCWP source category?

The EPA has not changed any aspect of the risk assessment since the September 2019 proposal for the PCWP source category.

3. What key comments did we receive on the risk review, and what are our responses?

The EPA received several comments in support of and against the proposed residual risk review and our determination that no revisions were warranted under CAA section 112(f)(2). Generally, the commenters disagreeing with the risk review misunderstood the type of data used for the development of the risk review or suggested changes to the underlying risk assessment methodology. Some commenters noted the conservative nature of the underlying residual risk methodology. Commenters also submitted data revisions for 23 of the 233 modeled facilities. After reviewing the inventory revisions, the EPA concluded that 21 of the revisions would serve only to reduce modeled risk through reduced emissions or improved dispersion inputs. Further, the EPA concluded that neither of the two remaining inventory revisions would increase the maximum modeled risk for the PCWP source category or change our conclusions regarding risk acceptability or ample margin of safety. See the memorandum, Review of Plywood and Composite Wood Products Emissions Inventory Revisions, in the docket for this action for details on the inventory revisions submitted. After review of the comments and information submitted, we determined that no changes to the proposed residual risk assessment were necessary. The comments and our specific responses can be found in the RTC document, which is available in the docket for this action, Docket ID No. EPA-HQ-OAR-2016-0243.

4. What is the rationale for our final approach and final decisions for the risk review?

As noted in our proposal, the EPA sets standards under CAA section 112(f)(2) using “a two-step standard-setting approach, with an analytical first step to determine an `acceptable risk' that considers all health information, including risk estimation uncertainty, and includes a presumptive limit on MIR of approximately 1-in-10 thousand” (see 54 FR 38045, September 14, 1989). The EPA weighs all health risk factors in our risk acceptability determination, including the cancer maximum individual risk (MIR), cancer incidence, the maximum cancer TOSHI, the maximum acute noncancer HQ, the extent of noncancer risks, the distribution of cancer and noncancer risks in the exposed population, and the risk estimation uncertainties.

Since proposal, neither the risk assessment nor our determinations regarding risk acceptability, ample margin of safety, or adverse environmental effects have changed. For the reasons explained in the proposed rulemaking, the EPA determined that the risks from the PCWP source category are acceptable, the current standards provide an ample margin of safety to protect public health, and more stringent standards are not necessary to prevent an adverse environmental effect. Therefore, the EPA is not revising the PCWP NESHAP (40 CFR part 63, subpart DDDD) to require additional controls pursuant to CAA section 112(f)(2) based on the residual risk review, and the EPA is readopting the existing standards under CAA section 112(f)(2).

B. Technology Review for the PCWP Source Category

The EPA's technology review focused on identifying developments in practices, processes, and control technologies for process units subject to standards under the NESHAP that have occurred since 2004 when emission standards were promulgated for the PCWP source category. The following process units were included in our review: Green rotary dryers, hardboard ovens, pressurized refiners, primary tube dryers, reconstituted wood product presses, softwood veneer dryer heated zones, rotary strand dryers, secondary tube dryers, conveyor strand dryers, fiberboard mat dryers, press predryers, and reconstituted wood product board coolers. The technological basis for the promulgated PCWP NESHAP was use of incineration-based or biofilter add-on controls to reduce HAP emissions. Incineration-based controls include regenerative thermal oxidizers (RTOs), regenerative catalytic oxidizers (RCOs), and incineration of process exhaust in an onsite combustion unit (referred to as “process incineration”). In addition, the PCWP NESHAP contains production-based compliance options (PBCO) for process units with low emissions due to pollution prevention measures inherent in their process, an emissions averaging compliance option, and work practice requirements for selected process units. In the proposal, the EPA noted a development in resin systems used to produce PCWP at some facilities but found that facilities generally have not altered their HAP emission control strategies to date as a result of resin changes and that it is not necessary, or supported, based on available data, at this time, to amend the current standards. The EPA proposed that no revisions to the PCWP NESHAP are necessary pursuant to CAA section 112(d)(6).

The EPA received comments supporting and opposing our proposed determination from the technology review that no revisions to the standards are necessary under CAA section 112(d)(6). Several commenters agreed with the EPA's decision not to revise the current standards pursuant to CAA section 112(d)(6). Conversely, another commenter opposed our determination not to revise the standards and stated that the EPA failed to satisfy the CAA because it did not set emission standards for currently unrestricted HAP (such as emissions from the PCWP process units not currently subject to emissions limits) and regulating these emissions is “necessary” under the CAA. The commenter asserted that the EPA must review and follow the CAA and existing case law to ensure it sets a numerical limit for every regulated HAP in order to satisfy CAA sections 112(d)(2), (3), and (6). The commenter further asserted that the EPA must update standards when a development is identified, such as the use of lower HAP resins.

In response to the comments, the EPA maintains that our CAA section 112(d)(6) review of developments in the processes, practices, and controls applied to sources regulated under 40 CFR part 63, subpart DDDD, was complete. The technology review was based on responses to an Information Collection Request (ICR) conducted under CAA section 114, requiring a mandatory response. In addition to ICR data provided by respondents, the EPA requested and reviewed other information from sources to determine if there have been developments in practices, processes, or control technologies by PCWP facilities, as described in section 3 of the RTC document. The technology review was documented in the memorandum, Technology Review for the Plywood and Composite Wood Products NESHAP, Docket Item No. EPA-HQ-OAR-2016-0243-0189.

Section 3 of the RTC document contains full responses to the comments received. Regarding the comment that the technology review did not address the unregulated sources, the EPA acknowledged in the preamble to the proposed rulemaking that there are unregulated sources with no-control MACT determinations, and we stated our plans to address those units in a separate action subsequent to the RTR at 84 FR 47077-47078. See section 9 of the RTC document for further discussion of our position regarding our obligations under CAA section 112(d)(6) with respect to unregulated sources.³

³ On April 21, 2020, as the Agency was preparing the final rule for signature, a decision was issued in LEAN v. EPA, 955 F. 3d. 1088 (D.C. Cir. 2020) in which the Court held that the EPA has an obligation to set standards for unregulated pollutants as part of technology reviews under CAA section 112(d)(6). At the time of signature, the mandate in that case had not been issued and the EPA is continuing to evaluate the decision.

Overall, the EPA's review of the developments in technology for the process units subject to the PCWP NESHAP did not reveal any changes that require revisions to the emission standards under CAA section 112(d)(6). As discussed in the first paragraph in this section of the preamble, the PCWP rule was promulgated with multiple options for reducing HAP emissions to demonstrate compliance with the standard. The EPA found that facilities are using each type of control system or pollution prevention measure (such as lower-HAP resins) that was anticipated when the PCWP emissions standards were promulgated. The EPA did not identify any developments in practices, processes, or control technologies for the regulated units beyond those accounted for in the originally promulgated PCWP NESHAP.

Regarding lower-HAP resins, for the proposal, the EPA characterized changes in the type of resin systems used in the particleboard, MDF, and hardwood plywood segments of the PCWP industry due to the formaldehyde standards limiting emissions from these products ⁴ as a “development” within the context of CAA section 112(d)(6). The EPA explained in the proposal that as facilities conduct repeat testing, they may find that the inlet concentration of formaldehyde and methanol from their pressing operations has dropped if they are now using a different, lower-HAP resin system to comply with the California Air Resources Board (CARB) and Toxic Substances Control Act (TSCA) standards. The decrease in inlet concentration may allow for future use of the PBCO without an add-on control device, providing an existing compliance option in addition to the current add-on control device compliance option. The EPA also explained that while the CARB and TSCA standards are a “development” within the context of CAA section 112(d)(6), these rules do not necessitate revision of the previously-promulgated PCWP emission standards because the promulgated PCWP emission standards already include the PBCO provisions for pollution prevention measures such as lower-HAP resins. The EPA disagrees that because resin changes made by some mills were noted as a development in the technology review that this necessitates revisions to the standards without regard to how the development is already addressed within the previously-promulgated emission standards, to how it relates to control technologies used in the industry, or other relevant factors. For the PCWP source category, the EPA did not identify information suggesting the resin system changes have significantly altered the type of process units or HAP pollution control technologies used in the PCWP industry to date or have led to processes or practices that have not been accounted for in the promulgated PCWP NESHAP compliance options. As explained further in Section 3 of the RTC document, at present, limited HAP emissions data are available to compare PCWP manufacturing process emissions before and after implementation of resin changes to meet the product formaldehyde standards. Facilities made a variety of different resin system changes (if needed for their specific products) in response to the CARB and TSCA rules, and, therefore, no single broadly-applicable approach feasible for all mills was identified. The different resin system changes facilities made, coupled with the limited available HAP emissions data, ongoing use of add-on control technologies following resin system changes, and availability of PBCO in the PCWP NESHAP do not support revising the PCWP NESHAP. Therefore, the EPA concluded it is not, at this time, necessary or supportable under this CAA section 112(d)(6) review to change the promulgated PCWP NESHAP as a result of resin changes facilities made to meet the CARB and TSCA rules. If additional emissions information on resin changes or other changes made by facilities becomes available and indicates updates need to be made to standards in future technology reviews, the EPA will evaluate that information at that time. In summary, the EPA proposed, and is finalizing the conclusion that no revisions to the PCWP NESHAP are necessary pursuant to CAA section 112(d)(6). All amendments being made to the final NESHAP are for reasons other than to reflect developments under CAA section 112(d)(6).

⁴ In 2008, the CARB finalized an Airborne Toxic Control Measure (ATCM) to reduce formaldehyde emissions from hardwood plywood, MDF, and particleboard. Consistent with the CARB ATCM, in July 2010, Congress passed the Formaldehyde Standards for Composite Wood Products Act, as title VI of TSCA, [15 U.S.C. 2697], requiring the EPA to promulgate a national rule. The EPA finalized the TSCA rule, Formaldehyde Emission Standards for Composite Wood Products, on December 12, 2016 (81 FR 89674), and finalized an implementation rule on February 7, 2018 (83 FR 5340). Compliance with the TSCA rule was required by December 2018. The CARB ATCM and the rule to implement TSCA title VI emphasize the use of low emission resins, including ultra-low-emitting formaldehyde and no added formaldehyde resin systems.

C. SSM Provisions

Consistent with the 2008 decision in Sierra Club v. EPA, the EPA proposed eliminating the SSM exemption in this rule and instead proposed that the same standards that apply during normal operation also apply during SSM, except during specific periods of startup and shutdown as described in section IV.C.2 of this preamble. Additionally, the EPA proposed several revisions to Table 10 (the General Provisions applicability table), proposed eliminating the incorporation of the General Provisions' requirement that the source develop an SSM plan, and proposed eliminating and revising certain recordkeeping and reporting requirements related to the SSM exemption, all of which are further described in section IV.C.4 of this preamble.

1. Elimination of the SSM Exemption

As noted in section III.C of this preamble, in its 2008 decision in Sierra Club v. EPA, 551 F.3d 1019 (D.C. Cir. 2008), the Court vacated portions of two provisions in the EPA's CAA section 112 regulations governing the emissions of HAP during periods of SSM. Specifically, the Court vacated the SSM exemption contained in 40 CFR 63.6(f)(1) and (h)(1), holding that under section 302(k) of the CAA, emissions standards or limitations must be continuous in nature and that the SSM exemption violates the CAA's requirement that some CAA section 112 standards apply continuously. Consistent with the Sierra Club decision, the EPA proposed eliminating the SSM exemption in this rule from 40 CFR 63.2250 and to remove the incorporation of 40 CFR 63.6(f)(1). (40 CFR 63.6(h)(1) was not applicable to this NESHAP.)

The EPA received comments supporting and opposing our proposal to eliminate the SSM exemption in the rule. Commenters opposed to eliminating the exemption stated that neither the CAA nor judicial precedent requires the EPA to delete the SSM provisions. According to these commenters, the best-performing facilities that are the basis for the MACT floor experience SSM events, and so it is appropriate for the EPA to recognize and account for those events, as it has in the existing PCWP MACT standards. One commenter noted that when the EPA promulgated the 2004 PCWP NESHAP, the EPA determined it was appropriate not to subject mills to the numerical emission limitations in those standards during SSM events, requiring instead that sources follow work practices to minimize emissions during such events, including developing and following an SSM plan. The commenter asserted that the EPA's proposal to eliminate 40 CFR 63.2250(a), and thereby require sources to meet the same emission limitations during periods of SSM, except for very limited cases (safety related shutdowns and brief periods during startup and shutdown of pressurized refiners), represents an unauthorized change to existing MACT standards, specifically claiming that it is not the product of the technology review described in the CAA, it is not required by case law, and it is inconsistent with decades of the EPA practice and judicial interpretations of NESHAP and new source performance standards. Conversely, a commenter in favor of the EPA's proposal to eliminate the SSM exemption argued that it is legally required and necessary in this rulemaking under CAA section 112(d), including CAA section 112(d)(6), for the EPA to remove the SSM exemptions for PCWP facilities as it has proposed to do because the CAA requires standards to apply continuously and the Court precedent (Sierra Club v. EPA) is a development since the prior standards were made.

The EPA acknowledges comments in support of the removal of the 40 CFR part 63, subpart DDDD, SSM exemption and we are promulgating our proposed SSM action. We disagree with comments suggesting that the legal precedent established in case law (Sierra Club v. EPA, 551 F.3d 1019 (D.C. Cir. 2008) should not apply to subpart DDDD. The Court decision held that emission limits under CAA section 112 must apply continuously and meet minimum stringency requirements, even during periods of SSM. Consistent with the Court's decision and for the reasons explained in the proposal preamble at 84 FR 47092-47096, we are finalizing our proposal to eliminate the SSM language in subpart DDDD. As explained in the proposal, our SSM-related rule revisions are in response to the Court's vacatur of the SSM exemptions in 40 CFR 63.6(f)(1) and (h)(1). When incorporated into CAA section 112(d) regulations for specific source categories, these two provisions exempted sources from the requirement to comply with otherwise applicable MACT standards during periods of SSM. The Court's vacatur rendered those provisions null and void prior to this rulemaking. Eliminating reference to these provisions and other related General Provisions referenced in subpart DDDD reflects the vacatur by the Court. We also eliminated the rule specific SSM provisions in subpart DDDD, as discussed further in section IV.C.4 of this preamble. The specific changes in the language can be found in Docket ID No. EPA-HQ-OAR-2016-0243 in the document titled Redline Version of 40 CFR Part 63, subpart DDDD Showing Final Changes. However, we do not agree with the commenter who characterized the 2008 Court ruling as a “development” that compels elimination of the SSM exemption under CAA section 112(d)(6). The EPA is not and need not rely on CAA section 112(d)(6) in order to eliminate the exemption but is choosing to take action at this time to make the NESHAP consistent with the 2009 ruling. As discussed in section IV.C.2 below, we proposed and are promulgating work practice standards for specific startup and shutdown events. Therefore, all current subpart DDDD facilities affected by SSM must be in compliance with a standard at all times (i.e., with either the normal operational standards or the work practices that apply during selected startup and shutdown periods) consistent with the Sierra Club v. EPA decision. Section IV.C.3 of this preamble provides further information on our position with respect to periods of malfunction.

2. Periods of Startup and Shutdown

In finalizing the standards in this rule, the EPA considered and proposed alternative actions to the simple removal of SSM provisions in the rule. As an alternative approach consistent with Sierra Club v. EPA, the EPA may designate different standards to apply during startup and shutdown. The EPA collected information with the PCWP ICR to use in determining whether applying the standards applicable under normal operations would be problematic for PCWP facilities during startup and shutdown. Facilities operating control systems generally operate the control systems while the process unit(s) controlled are started up and shut down. For example, RTOs and RCOs are warmed to their operating temperature set points using auxiliary fuel before the process unit(s) controlled startup, and the oxidizers continue to maintain their temperature until the process unit(s) controlled shutdown. Biofilters operate within a biofilter bed temperature range that will be more easily achieved during startup and shutdown with changes in biofilter bed temperature operating range discussed in section IV.F of this preamble. Based on the information collected, the EPA determined that PCWP facilities can meet standards applicable under normal operations at all times except during periods of safety-related shutdowns and pressurized refiner startups and shutdowns. To ensure that a CAA section 112 standard is met during all times, the EPA proposed alternate work practice standards for safety-related shutdowns and pressurized refiner startups and shutdowns. After considering comments on the proposed amendments, the EPA determined that an alternate work practice standard was also needed for direct-fired softwood veneer dryers undergoing startup or shutdown of gas-fired burners.

The following sections discuss the work practices the EPA is finalizing. Each work practice is designed to minimize emissions, in keeping with CAA requirements. All three work practices minimize the duration of time and circumstances under which they can be applied. Further, because all three work practices require the temporary suspension of material flow through the PCWP process, PCWP facilities are incentivized to minimize the use and duration of these work practices. Sections IV.C.2.a and b of this preamble discuss in more detail the work practice standards for safety-related shutdowns and pressurized refiner startup and shutdown, respectively, including comments received about the standards following proposal and the EPA's final decision regarding their requirements. Section IV.C.2.c of this preamble discusses the details of the work practice standard for direct-fired softwood veneer dryers undergoing startup or shutdown of gas-fired burners.

a. Safety-Related Shutdowns

As discussed in the preamble to the proposed rulemaking (84 FR 47093, September 6, 2019) and further elaborated in the RTC document, safety-related shutdowns differ from routine, planned shutdowns where facilities can continue routing process unit emissions to the control device until the process unit is shut down. Safety-related shutdowns have been accounted for in the process design and are not necessarily frequent but are pre-determined remedial actions anticipated to occasionally occur to such a degree that they are also distinguished from malfunctions which are, by definition, infrequent and not reasonably preventable (40 CFR 63.2). Malfunctions are unpredictable and may require different types of remediation. For example, the PCWP process predictably shuts down when these events are triggered. Safety-related shutdowns must occur rapidly in the event of unsafe conditions such as a suspected fire in a process unit heating flammable wood material. When unsafe conditions are detected, facilities must act quickly to shut off fuel flow (or indirect process heat) to the system, cease addition of raw materials (e.g., wood furnish, resin) to the process units, purge wood material and gases from the process unit, and isolate equipment to prevent loss of property or life and protect workers from injury. Because it is unsafe to continue to route process gases to the control system, the control system will be bypassed as the process quickly shuts down, in many cases automatically, through a system of interlocks designed to prevent dangerous conditions from occurring.

In order to clarify what constitutes a safety-related shutdown, the EPA proposed a new definition in 40 CFR 63.2292 defining a safety-related shutdown as an unscheduled shutdown of a process unit subject to a compliance option in Table 1B to 40 CFR part 63, subpart DDDD, (or a process unit with HAP control under an emissions averaging plan developed according to 40 CFR 63.2240(c)) during which time emissions from the process unit cannot be safely routed to the control system in place to meet the compliance options or operating requirements in subpart DDDD without imminent danger to the process, control system, or system operator. The EPA also proposed a work practice standard for safety-related shutdowns requiring facilities to follow documented site-specific procedures such as use of automated controls or other measures developed to protect workers and equipment to ensure that the flow of raw materials (such as furnish or resin) and fuel or process heat (as applicable) ceases and that material is removed from the process unit(s) as expeditiously as possible given the system design. These actions are taken by all (including the best-performing) facilities when safety-related shutdowns occur.

Comments were received both supporting and opposing the proposed work practice for safety-related shutdowns. Commenters in support of the standards stated that CAA section 112(h) allows the EPA to promulgate a design, equipment, work practice, or operational standard, or combination thereof, in two circumstances: (1) When HAP “cannot be emitted through a conveyance designed and constructed to emit or capture such a pollutant, or that any requirement for, or use of, such a conveyance would be inconsistent with any Federal, State, or local law,” and (2) when “the application of measurement methodology . . . is not practicable due to technological and economic limitations.” Commenters stated that safety-related shutdowns of process units with add-on control equipment present both of those circumstances and provided operational details summarized in Section 4.3 of the RTC document. The commenter explained that the best practice for controlling HAP emissions during such safety-related shutdowns is to minimize the duration of the event by promptly ceasing the addition of raw materials and heat to the process and removing materials from process equipment as soon as possible (although in some instances it is safer to have the material remain in the process equipment to contain a problem such as a fire).

A separate commenter opposed the EPA's proposed safety-related shutdown work practice standards, arguing that the EPA has not explained how the criteria under CAA section 112(h) are met to provide the EPA the statutory authority to set work practices. The commenter stated that the work practice standards the EPA proposed are too lax because they are written by the facilities with no requirement for approval by the EPA. The commenter contended that the work practices will not achieve “maximum” emission reduction because they only instruct facilities to protect workers and process equipment, with no reference to reducing air emissions. The commenter urged the EPA to clarify how recordkeeping requirements would apply in the context of work practice standards. The full comments and our responses pertaining to safety-related shutdowns are included in the RTC document. According to CAA section 112(h)(1), MACT standards may take the form of design, equipment, work practice, or operational standards “if it is not feasible in the judgement of the Administrator to prescribe or enforce an emission standard.” The phrase “if it is not feasible to prescribe or enforce an emission standard” is defined in CAA section 112(h)(2)(A) and (B) to mean any situation in which the Administrator determines that: (A) A HAP or pollutants cannot be emitted through a conveyance designed and constructed to emit or capture such pollutant, or that any requirement for, or use of, such a conveyance would be inconsistent with any federal, state or local law, or (B) the application of measurement methodology to a particular class of sources is not practicable due to technological and economic limitations.

The EPA has determined that work practices are appropriate during safety-related shutdowns in the PCWP industry because facilities cannot capture and convey HAP emissions to a control device during these periods for safety reasons. The control device could serve as an ignition source if there is an upset in the oxygen concentration or buildup of other combustibles in the PCWP process or exhaust gas collection system (e.g., combustible gas, condensed pitch on ductwork if moisture-laden gases in the system are allowed to cool, or wood dust) due to various conditions (e.g., if PCWP process equipment or pneumatic conveying systems become plugged). If there are sparks or fire in the PCWP process unit, conveyance, or the control device, the equipment could be damaged if exhaust continues to be routed from the PCWP process unit to the control device. A PCWP dryer or control device may experience an over-temperature condition indicative of a fire and triggering rapid equipment isolation. Thus, conveying emissions from the PCWP process unit to the control device is not technically feasible during safety-related shutdowns.

Further, application of measurement methodology is not practicable due to technological and economic limitations. Safety-related shutdowns are brief events that are incorporated into the process design for safety reasons but are not desirable operating conditions that constitute normal operations. Even if staged especially for an emissions measurement (which is economically impracticable due to lost production), the duration of safety-related shutdowns is necessarily brief (i.e., minutes), less than the 1 hour it takes to collect a single emissions measurement sample if the equipment is set up and measurement contractors are onsite ready to sample, let alone the 3 hours needed for a full emissions test. Because a full emissions measurement sample cannot be obtained during a safety-related shutdown, application of measurement methodology is not practicable due to technological limitations in addition to being economically impracticable. Therefore, it is the EPA's determination that PCWP-industry safety-related shutdowns meet the criteria in CAA section 112(h)(2)(B).

Based on our authority to set work practices, the EPA is finalizing a definition of “safety-related shutdown” in 40 CFR 63.2292 and finalizing a work practice for these shutdown events. The work practice is designed to be consistent with actions commonly undertaken by facilities to protect plant personnel, production equipment, and control equipment from dangerous circumstances like fires and explosions. The final work practice requires facilities to follow documented site-specific procedures such as use of automated controls or other measures developed to protect workers and equipment to ensure that the flow of raw materials (such as furnish or resin) and fuel or process heat (as applicable) ceases and that material is removed from the process unit(s) as expeditiously as possible given the system design to reduce air emissions. The phrase “to reduce air emissions” was added to the standard to address the concern expressed by one commenter that the work practice should direct facilities to consider air quality. The actions required by the safety-related shutdown work practice represent the maximum degree of emissions reduction achievable because they limit the amount of time, as well as the flow of raw materials and fuel into the process, and, therefore, emissions from the process undergoing safety-related shutdown. Rule language relating to the safety-related shutdown work practice was strengthened for the final rule in response to the commenter's concern that the EPA is giving full discretion to the facilities to develop their safety-related shutdown work practices for their own equipment configurations without oversight by the EPA. To strengthen the standard, the EPA added an initial compliance requirement to Table 6 of the final rule to clarify that facilities must have a record of safety-related shutdown procedures available for inspection by the delegated authority upon request. In addition, a recordkeeping requirement was added to Table 8 of the final rule to ensure documentation is available to track when the work practice is used, consistent with the proposed requirement under 40 CFR 63.2282(a)(2)(i). Finally, a reporting requirement was added to 40 CFR 63.2281(c)(4) to require facilities to report the number of instances and total amount of time during the reporting period when the safety-related shutdown work practice is used. If the safety-related shutdown work practice is used for more than 100 hours during a reporting period, the facility must report the date, time, and duration of each instance when the work practice was used. The EPA has concluded that these initial compliance and ongoing recordkeeping and reporting measures are sufficient to provide delegated authorities with information needed for oversight.

In addition, to clarify requirements, 40 CFR 63.2250(f)(6) was added to the final rule to state that the otherwise applicable compliance options, operating requirements, and work practice requirements (in rows 1 through 5 of Table 3 to 40 CFR part 63, subpart DDDD) do not apply when the startup/shutdown work practices apply (i.e., the work practices in rows 6 through 8 of Table 3 to subpart DDDD for safety-related shutdown, pressurized refiner startup and shutdown, and softwood veneer dryer gas-burner relights). Thus, compliance with the startup/shutdown work practices (in Table 3 to subpart DDDD, rows 6 through 8) does not constitute a failure to meet the otherwise applicable compliance options, operating requirements, and work practice requirements because these requirements do not apply while the startup/shutdown work practices apply. Finally, 40 CFR 63.2271(b)(4) was added to clarify that instances when the startup/shutdown work practice requirements are used (as reported under 40 CFR 63.2281(c)(4)) are not considered to be deviations from (or violations of) the otherwise applicable compliance options, operating requirements, and work practice requirements (in rows 1 through 5 of Table 3 to subpart DDDD) as long as facilities do not exceed the minimum amount of time necessary for these events.

b. Pressurized Refiner Startups and Shutdowns

Pressurized refiners use steam to heat and soften wood under pressure to grind it apart between rotating discs into fibers. Pressurized refiners discharge wood fiber and exhaust gases from refining directly into a primary tube dryer. Pressurized refiners cannot be vented through the dryer to the control system (i.e., the dryer control system) for a brief time after they are initially fed wood material during startup and as wood material clears the refiner during shutdown because they are not producing useable fiber suitable for drying or producing PCWP products (hardboard or MDF). During this time, instead of the pressurized refiner output being discharged into the dryer, exhaust is vented to the atmosphere (e.g., through an abort cyclone) and the wood is directed to a reclaim bin for storage and, commonly, recycling back into the refining process once it is running steadily. No resin is mixed with the off-specification material and the time periods are short (e.g., 15 minutes or less) before the pressurized refiner begins to discharge wood fiber and exhaust through the dryer and when the refiner is shutting down.

The EPA proposed a work practice requirement in Table 3 of the rule (40 CFR part 63, subpart DDDD) to apply during pressurized refiner startup and shutdown that limits the amount of time (and, thus, emissions) when wood is being processed through the system while exhaust is not routed through the dryer to its control system. This practice is consistent with how the best-performing facilities complete startup and shutdown of pressurized refiners. The proposed work practice stated that facilities must route exhaust gases from the pressurized refiner to its control system no later than 15 minutes after furnish is fed from the pressurized refiner to the tube dryer when starting up, and no more than 15 minutes after furnish ceases to be fed to the pressurized refiner when shutting down.

Comments were received both supporting and opposing the pressurized refiner startup and shutdown work practice standard. Commenters supporting the work practice stated that periods of startup and shutdown of pressurized refiners meet the CAA section 112(h) criteria for establishing a work practice standard, while commenters opposing the work practice argued that the EPA does not have statutory authority to apply work practice standards instead of numerical emissions limits to pressurized refiner startup and shutdown periods.

Commenters in support of the EPA's proposed work practice standard for startup and shutdown of pressurized refiners noted that the language of the standard in Table 3 to 40 CFR part 63, subpart DDDD appears to have a typographical error. The commenters suggested rewording the standard in Table 3 so that it instructs facilities to route exhaust gases from the pressurized refiner to the dryer control system no later than 15 minutes after wood is fed to the pressurized refiner when starting up and to stop wood flow to the pressurized refiner no more than 15 minutes after wood fiber stops being fed to the dryer from the pressurized refiner. The commenter opposing the work practice standard also questioned the timing and recordkeeping requirements. The full comments and our responses pertaining to pressurized refiners are included in the RTC document.

In response to these comments, the EPA concluded pressurized refiner startup and shutdown events meet the criteria in CAA section 112(h)(2)(B). Pressurized refiners are a particular class of sources where emissions are associated with wood processed through the refiner. Pressurized refiners cannot discharge unusable fiber through the tube dryer and its control system during startup and shutdown. Because venting through the pressurized refiner abort cyclone during startup and shutdown of pressurized refiners typically lasts 15 minutes or less, there are technological limitations to measuring emissions because HAP measurement methods require a 1-hour sampling time per test run, and a total of three test runs. The only way to obtain the required sample would be to operate in abort mode for each 1-hour sampling time. However, abort “bins” used to collect the off-spec wood furnish dumped from the system are not designed like material collection bins or silos for useable furnish at wood products facilities. Instead, the abort “bins” are often areas where off-spec fiber is dumped on the ground between concrete wind-breaks where it is removed with a front-end loader. Such areas do not have the capacity for dumping large amounts of fiber as would be needed to stage an event for 1 to 3 hours of testing, presenting another technological limitation. Staging abort dumping of 1 to 3 hours of fiber production also presents obvious economic limitations due to lost production for that time and loss or degradation of valuable fiber raw material. Finally, measuring emissions during pressurized refiner startup and shutdown is impractical because the PCWP NESHAP requires emissions measurement under representative operating conditions that are the conditions under which the process unit typically operates, excluding periods of startup and shutdown. Therefore, the EPA is finalizing a work practice for pressurized refiner startup and shutdown periods.

The EPA agrees that the wording of the proposed work practice standard for pressurized refiners in Table 3 needed clarification and has rewritten the standard for the final rule to instruct facilities to route exhaust gases from the pressurized refiner to its dryer control system no later than 15 minutes after wood is fed to the pressurized refiner during startup, and to stop wood flow into the pressurized refiner no more than 15 minutes after wood fiber and exhaust gases from the pressurized refiner stop being routed to the dryer during shutdown. In addition, we strengthened the work practice for startup/shutdown of pressurized refiners in the final rule by clarifying when the startup/shutdown work practice applies in 40 CFR 63.2250(f)(6), adding an initial compliance requirement to Table 6 of 40 CFR part 63, subpart DDDD, and adding a recordkeeping requirement to Table 8 of subpart DDDD to track when the work practice is used, consistent with the proposed requirement under 40 CFR 63.2282(a)(2)(i). Continuous compliance and reporting provisions were also added in 40 CFR 63.2271(b)(4) and 63.2281(c)(4), respectively, to provide clarity and aid in enforceability of the work practice requirement.

c. Veneer Dryer Burner Relights

An issue with veneer dryer burner relights stemming from removal of the SSM exemption was raised during the comment period for the proposed amendments. The EPA received a comment seeking clarification for direct-fired softwood veneer dryers undergoing relights of gas-fired burners. Specifically, the commenter noted that 40 CFR 63.2250(d) of the current PCWP rule defines shutoff of direct-fired burners resulting from partial or full production stoppages as shutdowns and the lighting or re-lighting of any one or all gas burners in direct-fired softwood veneer dryers as startups and not a malfunction. The commenter noted that the EPA proposed no changes to 40 CFR 63.2250(d) which was originally included in the PCWP rule to clarify that veneer dryer burner relights are not malfunctions due to their frequency. In the 2004 promulgated standard, these startup/shutdown events were required to be addressed under the SSM plan. The commenter explained that following the flame out of the burner, the dryer could contain non-combusted natural gas that must be purged prior to safely re-lighting the gas burners. Non-combusted natural gas cannot be exhausted to the control device due to safety concerns and must be vented along with whatever process emissions are in the dryer. The length of the purge varies based on system design, but only lasts a matter of minutes. Emissions are routed to the control system as expeditiously as possible following the burner re-light. Therefore, the commenter stated a dryer gas burner re-lighting startup work practice is needed for the same reasons as a safety shutdown work practice. However, because 40 CFR 63.2250(d) deals with dryer re-lights by defining them as startups, and the proposed rulemaking no longer contains a general exemption for startups, the commenter stated that some provision is needed for veneer dryer gas burner lighting and re-lighting.

In response to this comment, the EPA added a work practice to Table 3 of the final rule to clarify the requirements surrounding softwood veneer dryer gas-fired burner relights to ensure a standard applies continuously once the SSM plan is no longer required. The work practice requires direct-fired softwood veneer dryers undergoing startup or shutdown of gas-fired burners to cease feeding green veneer into the softwood veneer dryer and minimize the amount of time direct gas-fired softwood veneer dryers are vented to the atmosphere due to the conditions described in 40 CFR 63.2250(d). Related text was added to 40 CFR 63.2250(f) noting the work practice in Table 3 of 40 CFR part 63, subpart DDDD, applies when the otherwise applicable compliance options and operating requirements in the rule cannot be met. An initial compliance requirement was added to Table 6 of subpart DDDD to have a record of the procedures for startup and shutdown of softwood veneer dryer gas-fired burners available for inspection upon request by the delegated authority. In addition, a recordkeeping requirement was added to Table 8 of subpart DDDD to track when the work practice is used, consistent with the proposed requirement under 40 CFR 63.2282(a)(2)(i). Continuous compliance and reporting provisions were also added in 40 CFR 63.2271(b)(4) and 63.2281(c)(4), respectively, to provide clarity and aid in enforceability of the work practice requirement. Conforming changes to refer to the veneer dryer burner relight work practice with the other startup/shutdown work practices were also made throughout the rule.

Further clarification with respect to 40 CFR 63.2250(d) is needed as a result of our proposal to remove the SSM exemption (including the SSM plan). The EPA determined that a work practice is appropriate during direct-fired softwood veneer dryer startups/shutdowns of gas-fired burners because the conditions of CAA section 112(h)(2)(A) and (B) are both present during veneer dryer burner relights. Facilities cannot capture and convey HAP emissions to a control device during these periods for safety reasons. The control device for the veneer dryer could serve as an ignition source if there is an upset in the oxygen concentration or increase in the natural gas concentration in the system. Thus, is it not technically feasible for HAP emissions to be conveyed to the control device during startups/shutdowns associated with softwood veneer dryer gas-burner relights. Further, application of measurement methodology is not practicable due to technological and economic limitations. Softwood veneer dryer burner relights are brief events that take less than the 1 hour it takes to collect a single emissions measurement sample if the equipment is set up and measurement contractors are onsite ready to sample, let alone the 3 hours needed for a full emissions test. Because a full emissions measurement sample cannot be obtained while softwood veneer dryers are undergoing gas-burner relights, application of measurement methodology is not practicable due to technological limitations. In addition, attempting to stage softwood veneer dryer burner relights for purposes of emissions measurement is economically impracticable because veneer is not being dried or moving through the veneer dryer when the burners are not lit, resulting in a production loss during testing. Therefore, the EPA concludes that direct-fired softwood veneer dryers undergoing startup/shutdown of gas-fired burners meet the criteria in CAA section 112(h)(2)(B).

3. Periods of Malfunction

Periods of startup, normal operations, and shutdown are all predictable and routine aspects of a source's operations. Malfunctions, in contrast, are neither predictable nor routine. Instead they are, by definition, sudden, infrequent, and not reasonably preventable failures of emissions control, process, or monitoring equipment (40 CFR 63.2) (Definition of malfunction). The EPA interprets CAA section 112 as not requiring emissions that occur during periods of malfunction to be factored into development of CAA section 112 standards and this reading has been upheld as reasonable by the Court in U.S. Sugar Corp. v. EPA, 830 F.3d 579, 606-610 (2016). Under CAA section 112, emissions standards for new sources must be no less stringent than the level “achieved” by the best controlled similar source and for existing sources generally must be no less stringent than the average emission limitation “achieved” by the best performing 12 percent of sources in the category. There is nothing in CAA section 112 that directs the Agency to consider malfunctions in determining the level “achieved” by the best performing sources when setting emission standards. As the Court has recognized, the phrase “average emissions limitation achieved by the best performing 12 percent of” sources “says nothing about how the performance of the best units is to be calculated.” Nat'l Ass'n of Clean Water Agencies v. EPA, 734 F.3d 1115, 1141 (D.C. Cir. 2013). While the EPA accounts for variability in setting emissions standards, nothing in CAA section 112 requires the Agency to consider malfunctions as part of that analysis. The EPA is not required to treat a malfunction in the same manner as the type of variation in performance that occurs during routine operations of a source. A malfunction is a failure of the source to perform in a “normal or usual manner” and no statutory language compels the EPA to consider such events in setting CAA section 112 standards.

As the Court recognized in U.S. Sugar Corp, accounting for malfunctions in setting standards would be difficult, if not impossible, given the myriad different types of malfunctions that can occur across all sources in the category and given the difficulties associated with predicting or accounting for the frequency, degree, and duration of various malfunctions that might occur. Id. at 608 (“the EPA would have to conceive of a standard that could apply equally to the wide range of possible boiler malfunctions, ranging from an explosion to minor mechanical defects. Any possible standard is likely to be hopelessly generic to govern such a wide array of circumstances”). As such, the performance of units that are malfunctioning is not “reasonably” foreseeable. See e.g., Sierra Club v. EPA, 167 F.3d 658, 662 (D.C. Cir. 1999) (“The EPA typically has wide latitude in determining the extent of data-gathering necessary to solve a problem. We generally defer to an agency's decision to proceed on the basis of imperfect scientific information, rather than to `invest the resources to conduct the perfect study.'”). See also, Weyerhaeuser v. Costle, 590 F.2d 1011, 1058 (D.C. Cir. 1978) (“In the nature of things, no general limit, individual permit, or even any upset provision can anticipate all upset situations. After a certain point, the transgression of regulatory limits caused by `uncontrollable acts of third parties,' such as strikes, sabotage, operator intoxication or insanity, and a variety of other eventualities, must be a matter for the administrative exercise of case-by-case enforcement discretion, not for specification in advance by regulation.”). In addition, emissions during a malfunction event can be significantly higher than emissions at any other time of source operation. For example, if an air pollution control device with 99-percent removal goes off-line as a result of a malfunction (as might happen if, for example, the bags in a baghouse catch fire) and the emission unit is a steady state type unit that would take days to shut down, the source would go from 99-percent control to zero control until the control device was repaired. The source's emissions during the malfunction would be 100 times higher than during normal operations. As such, the emissions over a 4-day malfunction period would exceed the annual emissions of the source during normal operations. As this example illustrates, accounting for malfunctions could lead to standards that are not reflective of (and significantly less stringent than) levels that are achieved by a well-performing non-malfunctioning source. It is reasonable to interpret CAA section 112 to avoid such a result. The EPA's approach to malfunctions is consistent with CAA section 112 and is a reasonable interpretation of the statute.

Although no statutory language compels the EPA to set standards for malfunctions, the EPA has the discretion to do so where feasible. For example, in the Petroleum Refinery Sector RTR, the EPA established a work practice standard for unique types of malfunction that result in releases from pressure relief devices or emergency flaring events because the EPA had information for that source category to determine that such work practices reflected the level of control that applies to the best performers. 80 FR 75178, 75211-14 (December 1, 2015). In the proposed rulemaking for the PCWP, the EPA did not propose a work practice standard for malfunctions but instead stated that the EPA would consider whether circumstances warrant setting standards for a particular type of malfunction and, if so, whether the EPA has sufficient information to identify the relevant best performing sources and establish a standard for such malfunctions. The EPA encouraged commenters to provide any such information.

Numerous comments were received supporting and opposing the EPA's decision not to set a standard for malfunctions. One commenter opposed to the EPA's decision stated that there are several options the EPA could use for setting emission standards under CAA section 112 that would apply during malfunction events. For example, the commenter stated that the EPA might be able to establish a numerical emission limitation that applies at all times but has an averaging time of sufficient duration that short, infrequent spikes in emissions due to malfunctions would not cause the source to exceed the emission limitation (while at the same time ensuring that the source does not operate in a way that causes frequent, lengthy excursions above the normal controlled emission rate). The EPA also could use the flexibility accorded by CAA section 302(k) (which defines “emission limitation” and “emission standard” to include “any requirement relating to the operation or maintenance of a source to ensure continuous emission reduction, and any design, equipment, work practice or operational standard promulgated under” the CAA) to address emissions during malfunction events through operational requirements rather than by applying the same limits on pollutant emissions that apply during normal operations. Similarly, the commenter stated the EPA has grounds to exercise its authority under CAA section 112(h) to promulgate a design, equipment, work practice, or operational standard, or combination thereof, because it is not feasible to prescribe or enforce an emission standard. The commenter noted that even if the EPA does not identify a set of specific work practices that all affected facilities can follow that represent best practices for minimizing emissions during malfunctions, the EPA might instead be able to address malfunctions through a set of criteria that allows facilities to develop and follow a site-specific plan for minimizing the extent and duration of excess emissions during malfunctions. The commenter suggested that the EPA might use several of these approaches in combination and stated that accommodating malfunctions need not result in either an exemption or an increased numerical emission limitation. The commenter urged the EPA to use its authority under CAA sections 112 and 302(k) to address malfunctions in a reasonable, CAA section 112-compliant manner.

Conversely, another commenter supported the EPA's proposed removal of unlawful SSM exemptions in all forms because the CAA requires standards to apply continuously, and the Court precedent is a development since the prior standards were issued.

After considering all comments, the EPA is not finalizing a separate standard for periods of malfunction. In the PCWP proposed rulemaking, we requested comment and information to support the development of a work practice standard during periods of malfunction, but we did not receive sufficient information, including additional quantitative emissions data, on which to base a standard for periods of malfunction. Absent sufficient information, it is not reasonable at this time to establish a work practice standard for malfunctions for this source category.

4. Revisions to Table 10 to Subpart DDDD of Part 63

The EPA proposed several specific revisions to Table 10 to subpart DDDD of part 63 (the General Provisions table) to establish standards in this rule that apply at all times. The EPA is finalizing the amendments as proposed, with the clarifications noted in the following sections. The specific revisions are described in the remainder of this section.

a. General Duty (40 CFR 63.2250)

The EPA is finalizing the General Provisions table (Table 10) entry for 40 CFR 63.6(e)(1) and (2) by redesignating it as 40 CFR 63.6(e)(1)(i) and changing the “yes” in column 4 to a “no” in column 5 which was added to specify requirements 1 year after the effective date of the final amendments. Section 63.6(e)(1)(i) describes the general duty to minimize emissions. Some of the language in that section is no longer necessary or appropriate in light of the elimination of the SSM exemption. The EPA is instead adding a general duty regulatory text at 40 CFR 63.2250 that reflects the general duty to minimize emissions while eliminating the reference to periods covered by an SSM exemption. The current language in 40 CFR 63.6(e)(1)(i) characterizes what the general duty entails during periods of SSM. With the elimination of the SSM exemption, there is no need to differentiate between normal operations, startup and shutdown, and malfunction events in describing the general duty. Therefore, the language the EPA is finalizing for 40 CFR 63.2250 does not include that language from 40 CFR 63.6(e)(1).

The EPA is also revising the General Provisions table (Table 10) by adding an entry for 40 CFR 63.6(e)(1)(ii) and including a “no” in column 5. Section 63.6(e)(1)(ii) imposes requirements that are not necessary with the elimination of the SSM exemption or are redundant with the general duty requirement being added at 40 CFR 63.2250.

b. SSM Plan

The EPA is finalizing revisions to the General Provisions table (Table 10) to add an entry for 40 CFR 63.6(e)(3) by changing the “yes” in column 4 to a “no” in column 5. Generally, the paragraphs under 40 CFR 63.6(e)(3) require development of an SSM plan and specify SSM recordkeeping and reporting requirements related to the SSM plan. As noted, the EPA is finalizing removal of the SSM exemptions. Therefore, affected units will be subject to an emission standard during such events. The applicability of a standard during such events will ensure that sources have ample incentive to plan for and achieve compliance and, thus, the SSM plan requirements are no longer necessary.

c. Compliance With Standards

The EPA is finalizing revisions to the General Provisions table (Table 10) entry for 40 CFR 63.6(f)(1) by changing the “yes” in column 4 to a “no” in columns 4 and 5. The final revision in column 4 refers to 40 CFR 63.2250(a). The current language of 40 CFR 63.6(f)(1) exempts sources from non-opacity standards during periods of SSM. As discussed in section IV.C.1 of this preamble, the Court in Sierra Club v. EPA vacated the exemptions contained in this provision and held that the CAA requires that some CAA section 112 standards apply continuously. Consistent with the Court decision, the EPA is finalizing the revised standards in this rule to apply at all times.

The EPA is finalizing revisions to the General Provisions table (Table 10) entry for 40 CFR 63.6(h)(1) through (9) by redesignating it as 40 CFR 63.6(h)(1) and changing the “NA” in column 4 to a “no” in column 5. The current language of 40 CFR 63.6(h)(1) exempts sources from opacity standards during periods of SSM. As discussed in section IV.C.1 of this preamble, the Court in Sierra Club vacated the exemptions contained in this provision and held that the CAA requires that some CAA section 112 standards apply continuously. Consistent with the Court decision, the EPA is finalizing the revised standards in this rule to apply at all times.

d. Performance Testing (40 CFR 63.2262)

The EPA is finalizing revisions to the General Provisions table (Table 10) entry for 40 CFR 63.7(e)(1) by changing the “yes” in column 4 to a “no” in column 5. Section 63.7(e)(1) describes performance testing requirements. The EPA is finalizing instead the addition of a performance testing requirement at 40 CFR 63.2262(a) and (b). The performance testing requirements the EPA is adding differ from the General Provisions performance testing provisions in several respects. The regulatory text does not include the language in 40 CFR 63.7(e)(1) that restated the SSM exemption. The finalized performance testing provisions remove reference to 40 CFR 63.7(e)(1), reiterate the requirement that was already included in the PCWP rule to conduct emissions tests under representative operating conditions, and clarify that representative operating conditions excludes periods of startup and shutdown. As in 40 CFR 63.7(e)(1), performance tests conducted under this subpart should not be conducted during malfunctions because conditions during malfunctions are not representative of normal operating conditions. The EPA is finalizing added language that requires the owner or operator to record the process information that is necessary to document operating conditions during the test and include in such record an explanation to support that such conditions are representative. Section 63.7(e) requires that the owner or operator make available to the Administrator such records “as may be necessary to determine the condition of the performance test” upon request but does not specifically require the information to be recorded. The added regulatory text to this provision that the EPA is finalizing builds on that requirement and makes explicit the requirement to record the information.

The EPA is also finalizing the definition of “representative operating conditions” in 40 CFR 63.2292 to clarify that it excludes periods of startup and shutdown. Representative operating conditions include a range of operating conditions under which the process unit and control device typically operate and are not limited to conditions of optimal performance of the process unit and control device.

e. Monitoring

The EPA is finalizing revisions to the General Provisions table (Table 10) entry for 40 CFR 63.8(c)(1)(i) and (iii) by changing the “yes” in column 4 to a “no” in column 5. The cross-references to the general duty and SSM plan requirements in those subparagraphs are not necessary in light of other requirements of 40 CFR 63.8 that require good air pollution control practices (40 CFR 63.8(c)(1)) and that set out the requirements of a quality control program for monitoring equipment (40 CFR 63.8(d)).

The EPA is finalizing revisions to the General Provisions table (Table 10) by adding an entry for 40 CFR 63.8(d)(3) and including a “no” in column 5. The final sentence in 40 CFR 63.8(d)(3) refers to the General Provisions' SSM plan requirement which is no longer applicable. The EPA is finalizing adding to the rule at 40 CFR 63.2282(f) text that is identical to 40 CFR 63.8(d)(3) except that the final sentence is replaced with the following sentence: “The program of corrective action should be included in the plan required under 40 CFR 63.8(d)(2).”

f. Recordkeeping (40 CFR 63.2282)

The EPA is finalizing revisions to the General Provisions table (Table 10) entry for 40 CFR 63.10(b)(2)(i) through (iv) by redesignating it as 40 CFR 63.10(b)(2)(i) and changing the “yes” in column 4 to a “no” in column 5. Section 63.10(b)(2)(i) describes the recordkeeping requirements during startup and shutdown. The EPA is finalizing instead the addition of recordkeeping requirements to 40 CFR 63.2282(a). When a source is subject to a different standard during startup and shutdown, it will be important to know when such startup and shutdown periods begin and end to determine compliance with the appropriate standard. Thus, the EPA is finalizing adding language to 40 CFR 63.2282(a) requiring that sources subject to an emission standard during startup or shutdown that differs from the emission standard that applies at all other times must record the date, time, and duration of such periods.

The EPA is finalizing revisions to the General Provisions table (Table 10) by adding an entry for 40 CFR 63.10(b)(2)(ii) and including a “no” in column 5. Section 63.10(b)(2)(ii) describes the recordkeeping requirements during a malfunction. The EPA is finalizing the addition of such requirements to 40 CFR 63.2282(a). The final regulatory text the EPA is adding differs from the General Provisions it is replacing in that the General Provisions requires the creation and retention of a record of the occurrence and duration of each malfunction of process, air pollution control, and monitoring equipment. The EPA is finalizing this requirement to apply to any failure to meet an applicable standard and is requiring that the source record the date, time, and duration of the failure rather than the “occurrence.” The EPA is also finalizing adding to 40 CFR 63.2282(a) a requirement that sources keep records that include a list of the affected source or equipment and actions taken to minimize emissions, an estimate of the quantity of each regulated pollutant emitted over the compliance option in 40 CFR 63.2240 the source failed to meet (including the compliance options in Table 1A or B to 40 CFR part 63, subpart DDDD, or the emissions averaging compliance option), and a description of the method used to estimate the emissions. Examples of such methods would include product-loss calculations, mass balance calculations, measurements when available, or engineering judgment based on known process parameters. The EPA is finalizing the requirement that sources keep records of this information to ensure that there is adequate information to allow the EPA to determine the severity of any failure to meet a standard, and to provide data that may document how the source met the general duty to minimize emissions when the source has failed to meet an applicable standard. For each failure to meet an operating requirement in Table 2 to subpart DDDD or work practice requirement in Table 3 to subpart DDDD, facilities must maintain sufficient information to estimate the quantity of each regulated pollutant emitted over the emission limit. This information must be sufficient to provide a reliable emissions estimate if requested by the Administrator.

The EPA is finalizing revisions to the General Provisions table (Table 10) by adding an entry for 40 CFR 63.10(b)(2)(iv) and including a “no” in column 5. When applicable, the provision requires sources to record actions taken during SSM events when actions were inconsistent with their SSM plan. The requirement is no longer appropriate because SSM plans will no longer be required. The requirement previously applicable under 40 CFR 63.10(b)(2)(iv)(B) to record actions to minimize emissions and record corrective actions is now applicable by reference to 40 CFR 63.2282(a).

The EPA is finalizing revisions to the General Provisions table (Table 10) by adding 40 CFR 63.10(b)(2)(v) to the entry for 40 CFR 63.10(b)(2)(iv) and including a “no” in column 5. When applicable, the provision requires sources to record actions taken during SSM events to show that actions taken were consistent with their SSM plan. The requirement is no longer appropriate because SSM plans will no longer be required.

The EPA is finalizing revisions to the General Provisions table (Table 10) by adding an entry for 40 CFR 63.10(c)(15) and including a “no” in column 5. The EPA is finalizing that 40 CFR 63.10(c)(15) no longer apply. When applicable, the provision allows an owner or operator to use the affected source's SSM plan or records kept to satisfy the recordkeeping requirements of the SSM plan, specified in 40 CFR 63.6(e), to also satisfy the requirements of 40 CFR 63.10(c)(10) through (12). The EPA is finalizing eliminating this requirement because SSM plans would no longer be required, and, therefore, 40 CFR 63.10(c)(15) no longer serves any useful purpose for affected units.

g. Reporting (40 CFR 63.2281)

The EPA is finalizing revisions to the General Provisions table (Table 10) entry for 40 CFR 63.10(d)(5) by redesignating it as 40 CFR 63.10(d)(5)(i) and changing the “yes” in column 4 to a “no” in column 5. Section 63.10(d)(5)(i) describes the reporting requirements for SSM events. To replace the General Provisions reporting requirement, the EPA is finalizing adding reporting requirements to 40 CFR 63.2281(d) and (e). The replacement language differs from the General Provisions requirement in that it eliminates periodic SSM reports as a stand-alone report. The EPA is finalizing language that requires sources that fail to meet an applicable compliance option in 40 CFR 63.2240 at any time to report the information concerning such events in the semiannual compliance report already required under this rule. The EPA is finalizing that the report must contain the number, date, time, duration, and the cause of such events (including unknown cause, if applicable), a list of the affected source or equipment, an estimate of the quantity of each regulated pollutant emitted over any emission limit, and a description of the method used to estimate the emissions. Examples of such methods would include product-loss calculations, mass balance calculations, measurements when available, or engineering judgment based on known process parameters. The EPA is finalizing this requirement to ensure that there is adequate information to determine compliance, to allow the EPA to determine the severity of the failure to meet an applicable standard, and to provide data that may document how the source met the general duty to minimize emissions during a failure to meet an applicable standard.

A commenter on the proposed rulemaking stated that facilities may not have information to estimate emissions resulting from a deviation from an operating parameter limit (e.g., low oxidizer or biofilter temperature), and requested that emissions estimates only be required to be recorded or reported for failure to meet an emission limit. As explained in the RTC document included in the docket, EPA agrees that precise measurement of PCWP process unit emissions during an operating requirement deviation under the PCWP NESHAP is challenging unless the failure occurs during a performance test. Therefore, 40 CFR 63.2281(e)(12) was updated for the final rule to require reporting of an emission estimate only for failures to meet the numerical emission compliance options in 40 CFR 63.2240, including the compliance options in Table 1A or 1B of subpart DDDD or the emissions averaging compliance option. As noted in section IV.C.4.f of this preamble, 40 CFR 63.2282(a) requires recordkeeping of sufficient information to provide an emissions estimate associated with failure to meet an operating or work practice requirement, if requested by the Administrator.

The EPA will no longer require owners or operators to determine whether actions taken to correct a malfunction are consistent with an SSM plan, because plans would no longer be required. The finalized amendments, therefore, eliminate the cross-reference to 40 CFR 63.10(d)(5)(i) that contains the description of the previously required SSM report format and submittal schedule from this section. These specifications are no longer necessary because the events will be reported in otherwise required reports with similar format and submittal requirements.

The EPA is finalizing revisions to the General Provisions table (Table 10) by adding an entry for 40 CFR 63.10(d)(5)(ii) and including a “no” in column 5. Section 63.10(d)(5)(ii) describes an immediate report for SSM events when a source failed to meet an applicable standard but did not follow the SSM plan. The EPA will no longer require owners or operators to report when actions taken during an SSM event were not consistent with an SSM plan, because plans would no longer be required.

Also, the EPA is removing and reserving 40 CFR 63.2281(e)(1) which required reporting of the date and time when each malfunction started and stopped. As discussed in section IV.C.4.f of this preamble, reporting is required for deviations from the applicable standard as opposed to every malfunction occurrence regardless of whether it results in a failure to meet the standard. Section 40 CFR 63.2281(e)(4) requires reporting of the date and time each deviation started and stopped, and whether each deviation occurred during a period of SSM.

D. Electronic Reporting

The EPA proposed that owners or operators of PCWP facilities submit electronic copies of required performance test reports, performance evaluation reports for continuous monitoring systems (CMS) measuring relative accuracy test audit (RATA) pollutants (i.e., total hydrocarbon monitors), selected notifications, and semiannual reports through the EPA's Central Data Exchange (CDX) using the CEDRI. The EPA proposed that performance test results collected using test methods that are supported by the EPA's Electronic Reporting Tool (ERT) as listed on the ERT website ⁵ at the time of the test be submitted in the format generated through the use of the ERT and that other performance test results be submitted in portable document format (PDF) using the attachment module of the ERT. Similarly, performance evaluation results of CMS measuring RATA pollutants that are supported by the ERT at the time of the test would be submitted in the format generated through the use of the ERT and other performance evaluation results be submitted in PDF using the attachment module of the ERT.

⁵ https://www.epa.gov/electronic-reporting-air-emissions/electronic-reporting-tool-ert.

For the PCWP semiannual report, the EPA proposed that owners or operators use a spreadsheet template to submit information to CEDRI. A draft version of the spreadsheet template for this report was included in the docket for the proposed rulemaking and the EPA specifically requested comment on its content, layout, and overall design.⁶ The EPA also proposed to require future initial notifications developed according to 40 CFR 63.2280(b) and notifications of compliance status developed according to 40 CFR 63.2280(d) to be uploaded in CEDRI in a user-specified (e.g., PDF) format. In addition, the EPA proposed two broad circumstances in which electronic reporting extensions may be granted. In both circumstances, the decision to accept the claim of needing additional time to report is within the discretion of the Administrator, and reporting should occur as soon as possible. The EPA proposed these potential extensions to protect owners or operators from noncompliance in cases where they cannot successfully submit a report by the reporting deadline for reasons outside of their control. The situation where an extension may be warranted due to outages of the EPA's CDX or CEDRI which precludes an owner or operator from accessing the system and submitting required reports is addressed in 40 CFR 63.2281(k). The situation where an extension may be warranted due to a force majeure event, which is defined as an event that will be or has been caused by circumstances beyond the control of the affected facility, its contractors, or any entity controlled by the affected facility that prevents an owner or operator from complying with the requirement to submit a report electronically as required by this rule is addressed in 40 CFR 63.2281(l). Examples of such events are acts of nature, acts of war or terrorism, or equipment failure or safety hazards beyond the control of the facility.

⁶ See 40 CFR part 63, subpart DDDD—Plywood and Composite Wood Products Semiannual Compliance Reporting Spreadsheet Template, Docket Item No. EPA-HQ-OAR-2016-0243-0176.

The EPA received several comments regarding the proposed electronic reporting requirements, including favorable comments and comments suggesting revisions. The electronic reporting requirements are included in the final rule as proposed with clarification of specific questions raised by commenters. Specific comments pertaining to the draft spreadsheet template are detailed in the RTC document along with the EPA's responses explaining how these comments were used to improve the template. A revised version of the semiannual electronic reporting spreadsheet template is available in the docket for the final rule.

One commenter requested that the requirement to use a CEDRI form should not begin until after the form has been available in CEDRI for at least 1 year. The commenter also recommended that the transition to using the new reporting form apply to an entire reporting period, not come into effect in the middle of a reporting period and result in two different reports being prepared. In response to this comment, we revised the final rule to specify use of the semiannual reporting template for the first full reporting period after it has been available on the CEDRI website for 1 year. Refer to section IV.J of this preamble for more discussion of the compliance timeline. The EPA proposed a conforming amendment in Table 9 to 40 CFR part 63, subpart DDDD, to require submittal of CMS performance evaluations according to the electronic reporting provisions for performance evaluations proposed in 40 CFR 63.2281(j). One commenter requested that the EPA clarify that CMS performance evaluations should be submitted only for continuous emission monitoring systems (CEMS) and not for continuous parameter monitoring systems. In response to these requests for clarification, we revised Table 9 to subpart DDDD to refer to state the CMS performance evaluation to be reported is the performance evaluation required for CEMS under 40 CFR 63.2269(d)(2). As discussed in section IV.G of this preamble, for the final rule, we also revised Table 10 of subpart DDDD to clarify that the CMS performance evaluation provisions in 40 CFR 63.8(e) and the RATA provisions in 40 CFR 63.8(f)(6) only apply for CEMS under subpart DDDD.

E. Repeat Emissions Testing

As part of an ongoing effort to improve compliance with federal air emission regulations, the EPA reviewed the emissions testing requirements of 40 CFR part 63, subpart DDDD, and proposed to require facilities complying with the standards in Table 1B of 40 CFR part 63, subpart DDDD, using an add-on control system other than a biofilter to conduct repeat emissions performance testing every 5 years. Currently, facilities operating add-on controls are required to conduct an initial performance test by the date specified in 40 CFR 63.2261(a). In addition to the initial performance test, process units controlled by biofilters are already required by the PCWP NESHAP to conduct repeat performance testing every 2 years. Periodic performance tests for all types of control systems are already required by permitting authorities for many facilities. Further, the EPA believes that requiring repeat performance tests will help to ensure that control systems are properly maintained over time. As proposed in Table 7 to 40 CFR part 63, subpart DDDD (row 7), the first of the repeat performance tests would be required to be conducted within 3 years of the effective date of the revised standards or within 5 years (60 months) following the previous performance test, whichever is later, and thereafter within 60 months following the previous performance test. Section IV.J of this preamble provides more information on compliance dates.

The EPA specifically requested comments on the proposed requirements for repeat performance testing. One commenter agreed with the proposed requirements and stated they are well supported and legally required as part of meeting the EPA's statutory obligations. The EPA received other comments requesting clarification of the requirements surrounding repeat testing. One commenter requested clarification with regards to whether the repeat testing is to include press capture efficiency testing and requested due to cost, that repeat press capture efficiency testing only be required if an alteration has been made to the enclosure that would significantly affect its efficacy. In response to this comment, a footnote was added to Table 7 to 40 CFR part 63, subpart DDDD, clarifying that capture efficiency demonstration is not required with repeat performance tests if the capture device is maintained and operated consistent with its design as well as its operation during the previous capture efficiency demonstration conducted according to Table 4 to subpart DDDD, row 9 as specified in 40 CFR 63.2267.⁷ Aside from this clarification, the proposed requirements for repeat emissions testing every 5 years for add-on controls other than biofilters are included in the final rule as proposed.

⁷ The footnote added to Table 7 to 40 CFR part 63, subpart DDDD, clarifying when capture efficiency testing is required was included for biofilters and other control devices undergoing repeat emissions testing.

Two commenters requested more flexibility for catalytic oxidizer catalyst checks required by the rule given the added repeat testing requirements. The commenters requested the frequency of catalyst checks be revised to “annual” or no more than every 15 months and requested the requirement for catalyst checks be eliminated during years when emissions tests are conducted. In response to these comments, the EPA revised Tables 2 and 7 to 40 CFR part 63, subpart DDDD, to refer to “annual” catalyst checks and included a footnote stating that facilities may forego the annual catalyst activity check during the calendar year when a performance test conducted according to Table 4 to subpart DDDD. The final rule requires that, in each calendar year, either a performance test or a catalyst activity check must be conducted.

One commenter requested clarification that the Notification of Compliance Status (NCS) is only required with the initial performance test, not with each repeat performance test. As explained further in the RTC document, a NCS is required with initial and repeat performance tests under 40 CFR 63.9. In response to this comment, the EPA deleted the word “initial” from 40 CFR 63.2280(d) and added a phrase mentioning the “repeat performance test as specified in Table 7 to this subpart” so it is clearer that a NCS is required when performing repeat testing according to the methods in Table 4 to 40 CFR part 63, subpart DDDD. The EPA also deleted the word “initial” and added a reference to Table 7 to subpart DDDD (which includes repeat testing in rows 3 and 7) to 40 CFR 63.2280(d)(2) and clarified that the NCS only needs to have “a summary of” the performance test results submitted according to the electronic performance test reporting provisions in 40 CFR 63.2281(i).

F. Biofilter Bed Temperature

Facilities using a biofilter to comply with the PCWP NESHAP must monitor biofilter bed temperature and maintain the 24-hour block biofilter bed temperature within the range established during performance testing showing compliance with the emission limits. As originally promulgated, the upper and lower limits of the biofilter bed temperature were required to be established as the highest and lowest 15-minute average bed temperatures, respectively, during the three test runs. Facilities may conduct multiple performance tests to expand the biofilter bed operating temperature range. See 40 CFR 63.2262(m).

The EPA learned that multiple facilities are having difficulty complying with the PCWP biofilter bed temperature monitoring requirements established according to the original rule. Biofilter bed temperature is affected by ambient temperature which cannot always be accurately predicted in advance of scheduling performance tests. In consideration of this issue, as discussed in the preamble for the proposed amendments (at 84 FR 47097), the EPA proposed to revise 40 CFR 63.2262(m)(1) to add a 5-percent variability margin to the biofilter bed temperature upper and lower limits established during emissions testing.

Commenters on the proposal stated that the proposed 5-percent variability margin is insufficient, particularly on the lower end of the biofilter bed temperature range and recommended instead that the EPA provide a wider margin allowance or extend the operating limit averaging period beyond the current 24-hour period. The commenters stated that, unlike other common air pollution control devices with operating parameters that can be controlled within a small percentage of set point and are not subject to ambient atmospheric conditions, biofilters are influenced by diurnal, day-to-day, and seasonal ambient temperature variations because they are typically located outside due to their size. They further stated that in practical terms, in order to set the widest bed temperature range, a facility must test on the coldest and the hottest day of the year, yet predicting those days is not possible and is further complicated by the fact that stack test teams and permitting agencies must be given months of advance notice when scheduling a test.

To address the commenters' concern that a 5-percent variability margin is insufficient, the EPA increased the variability margin to 10 percent for the final rule with the stipulation that the variability margin not exceed 8 degrees Fahrenheit (°F) on the upper end of the biofilter bed range. As noted in the memorandum, Review of Select Biofilter/Bioscrubber Data Submitted in Response to the Plywood and Composite Wood Products Information Collection Request, Docket Item No. EPA-HQ-OAR-2016-0243-0188, the biofilter bed temperature across all of the biofilters in the PCWP industry spans from 40 °F to 150 °F. On the low end of this range, 5 percent is 2 °F while 10 percent is 4 °F. On the high end of the range, 5 percent is 8 °F while 10 percent is 15 °F. The upper-end value of 15 °F added to 150 °F would allow the facility to operate at 165 °F, which the EPA considers excessive in the absence of data showing this temperature is not detrimental to the microbial population. Therefore, for the final rule, the EPA capped the variability margin for the high end of the biofilter bed temperature range at 8 °F (which coincides with the margin proposed). Thus, for the high-end biofilter bed temperature, facilities may add up to 10 percent, not to exceed 8 °F.

The EPA anticipates that facilities currently having difficulty maintaining the biofilter bed temperature limits may wish to adjust their temperature limits. As originally promulgated, 40 CFR 63.2262(m)(1) states that facilities may base their biofilter bed temperature range on values recorded during previous performance tests provided that the data used to establish the temperature ranges have been obtained using the required test methods; and that facilities using data from previous performance tests must certify that the biofilter and associated process unit(s) have not been modified since the test. This provision (if met) clarifies that facilities can adjust their previously established biofilter temperature range to include the 5-percent variability margin, if desired.

G. Thermocouple Calibration

At 40 CFR 63.2269(b)(4), the PCWP NESHAP currently requires conducting an electronic calibration of the temperature monitoring device at least semiannually according to the procedures in the manufacturer's owner's manual. Stakeholders with facilities subject to the standard explained to the EPA that they are unaware of a thermocouple manufacturer that provides procedures for conducting electronic calibration of thermocouples. According to stakeholders, facilities have been replacing thermocouples because they cannot electronically calibrate them. The stakeholders requested the EPA consider an alternative approach to the current requirement in 40 CFR 63.2269(b)(4). To address this issue, the EPA proposed revisions to 40 CFR 63.2269(b)(4) to allow multiple alternative approaches to thermocouple validation.

The EPA received comments supporting the proposed revisions to 40 CFR 63.2269(b)(4) and we are promulgating these revisions as proposed with minor clarifications. In response to a comment that the word “calibration” be removed from 40 CFR 63.2269(b)(5), the EPA is amending this paragraph to replace “calibration and validation checks” with “validation checks” and to specify that validation checks be conducted using the procedures in 40 CFR 63.2269(b)(4). One commenter requested the EPA to clarify that temperature sensor validations are not performance evaluations requiring formal notification and reporting under 40 CFR 63.8. For the final rule, the EPA has revised Table 10 of 40 CFR part 63, subpart DDDD, to clarify that the CMS performance evaluation provisions in 40 CFR 63.8(e) and the RATA provisions in 40 CFR 63.8(f)(6) only apply for CEMS under subpart DDDD.

H. Non-HAP Coating Definition

The EPA proposed to replace the references to Occupational Safety and Health Administration (OSHA)-defined carcinogens and 29 CFR 1910.1200(d)(4) in the PCWP “non-HAP coating” definition with a reference to a new appendix B to 40 CFR part 63, subpart DDDD. The proposed appendix listed the specific carcinogenic HAP that must be below 0.1 percent by mass for a PCWP coating to be considered a non-HAP coating.

One commenter stated that the Hazard Communication Standard (HCS) (29 CFR 1910.1200(g)), revised in 2012, requires that a chemical manufacturer, distributor, or importer provide a Safety Data Sheet (SDS) (formerly MSDSs or Material Safety Data Sheets) for each hazardous chemical to downstream users, and that PCWP facilities rely on SDSs to identify whether coatings contain carcinogens. The commenter stated that if the EPA finalizes a separate list of HAP in appendix B to 40 CFR part 63, subpart DDDD, there will be no certainty as to whether non-HAP coatings are being used because of the discrepancy in HAP listed on SDSs (per the HCS) and in appendix B to subpart DDDD. The commenter suggested the EPA should remove appendix B to subpart DDDD and instead reference the OSHA SDS requirements for classification of carcinogenicity at 29 CFR 1910.1200, appendix A, section A.6.4, which match the requirements in the now obsolete OSHA regulatory reference proposed for deletion from the PCWP non-HAP coating definition.

The EPA agrees that referencing appendix A to 29 CFR 1910.1200 in the PCWP rule's non-HAP coating definition is a more streamlined approach for the PCWP NESHAP than use of the proposed appendix B to 40 CFR part 63, subpart DDDD. The OSHA language the PCWP proposal sought to replace is in appendix A to 29 CFR 1910.1200, section A.6.4. For the final PCWP amendments, the EPA is defining non-HAP coating to mean a coating with HAP contents below 0.1 percent by mass for OSHA-defined carcinogens as specified in section A.6.4 of appendix A to 29 CFR 1910.1200 and below 1.0 percent by mass for other HAP compounds. As a result of the new reference, the proposed appendix B is not being finalized.

I. Technical and Editorial Changes

The EPA is finalizing the following technical and editorial changes to the final rule as proposed:

• The clarifying reference to “SSM plans” in 40 CFR 63.2252 was removed because SSM plans would no longer be applicable after the date specified in 40 CFR 63.2250(c);

• the redundant reference in 40 CFR 63.2281(c)(6) for submittal of performance test results with the compliance report was eliminated because performance test results would be required to be electronically reported;

• the EPA revised 40 CFR 63.2281(d)(2) and added language to 40 CFR 63.2281(e) introductory text and (e)(12) and (13) to make these paragraphs more consistent to facilitate electronic reporting;

• a provision stating that the EPA retains authority to approve alternatives to electronic reporting was added to 40 CFR 63.2291(c)(5);

• cross-references to the 40 CFR part 60 appendices containing test methods were updated in Table 4 of the rule;

• cross-references were updated throughout the rule, as needed, to match the proposed changes;

• cross-references to 40 CFR 63.14 were updated to remove outdated paragraph references;

• the equation number cross-referenced in the definition of “MSF” was corrected; and

• the cross-reference in 40 CFR 63.2290 was updated to include all sections of the General Provisions.

J. Compliance Dates

The EPA proposed that existing affected sources and other affected sources that commenced construction or reconstruction on or before September 6, 2019, must comply with all of the amendments 6 months (180 days) after the effective date of the final rule.⁸ The EPA also proposed the addition of electronic reporting requirements that will require use of a semiannual reporting template once the template has been available on the CEDRI website (https://www.epa.gov/electronic-reporting-air-emissions/compliance-and-emissions-data-reporting-interface-cedri) for 6 months. New requirements to conduct repeat performance testing every 5 years for facilities using an add-on control system other than a biofilter (see section IV.E of this preamble) were also proposed. The first of the repeat performance tests would be required to be conducted within 3 years after the effective date of the revised standards, or within 5 years (60 months) following the previous performance test, whichever is later, and thereafter within 60 months following the previous performance test. The EPA specifically requested comment on whether the proposed compliance times provide enough time for owners or operators to comply with the proposed amendments, and if the proposed time window is not adequate, requested that commenters provide an explanation of specific actions that would need to be undertaken to comply with the proposed amended requirements and the time needed to make the adjustments for compliance with any of the revised requirements.

⁸ The final action is not a “major rule” as defined by 5 U.S.C. 804(2), therefore, the effective date of the final rule is the promulgation date as specified in CAA section 112(d)(10).

One commenter stated that the 180 days proposed by the EPA for existing facilities to comply with all of the proposed amendments is not enough time to complete all of the activities that must be done in order to effect a smooth transition to the new requirements, including: Developing a site-specific implementation plan; implementing new startup and shutdown procedures; reprogramming of electronic systems and automated alarms to account for the removal of SSM provisions and the addition of new startup and shutdown related work practices; reworking recordkeeping and reporting systems to match the layout of the new CEDRI form (e.g., breaking out reporting by individual equipment instead of by process group); developing and communicating guidance to ensure consistent implementation across a company's facilities; preparing permit applications and acquiring revised air permits to reflect the elimination of SSM provisions and addition of new requirements; developing procedures for estimating excess emissions due to deviations; and developing and providing training for facility staff on the revised requirements. The commenter further stated that applying for and receiving a permit revision to reflect the revised requirements alone will likely take more than 180 days and expressed concern that if additional time is not provided and if current permit language conflicts with the final RTR rule, facilities will have to determine how to comply with both the old requirements and the new requirements. The commenter also noted that working with information technology support staff to re-program a facility's electronic systems to align with the new requirements is an effort that takes more than 180 days to plan and implement.

After considering the public comments, the EPA recognizes that 180 days is not practicable for completion of the steps needed to implement the PCWP rule changes given the complexity of operations in the PCWP source category. The PCWP industry involves manufacturing of several different products, using a variety of process unit and control system combinations that differ from facility to facility. As documented in the technology review, the PCWP processes and controls at many mills are highly interconnected (e.g., where multiple different types of process units are routed to the same control device; process units of one type are routed through process units of a different type to emissions control; or where the furnace that provides process heat is also part of the air pollution control system for some processes). The interconnectivity of processes and fire-prevention systems needed for processing wood requires a high degree of automation and interconnection in the programmable logic controllers and data acquisition systems (DAS) tailored to each PCWP plant site. Some companies have one PCWP facility while others have more than 10 facilities manufacturing different PCWP products using a variety of equipment configurations. The EPA understands that companies with numerous PCWP facilities need time for corporate coordination of IT programming resources across multiple uniquely configured plant sites, while companies with fewer facilities have more-limited environmental staff that are sometimes shared across two or three PCWP facilities to oversee reprogramming. The EPA has concluded that 1 year following the effective date of the final amendments is the most expeditious compliance period practicable for existing PCWP affected sources to make the DAS adjustments needed to demonstrate compliance with the revised requirements during startup and shutdown periods and to transition to electronic reporting. All existing affected facilities will have to continue to meet the current requirements of the NESHAP until the applicable compliance date of the amended rule. Affected sources that commence construction or reconstruction after September 6, 2019 (the publication date of the proposed rulemaking) must comply with all requirements of the subpart, including the final amendments, no later than the effective date of the final rule or upon initial startup, whichever is later.

Regarding the compliance timeline for semiannual reporting, the EPA received comments requesting that the new requirements come into effect at the beginning of a semiannual reporting period, and not in the middle of a reporting period to avoid two different reports being prepared. The EPA recognizes that there can be a transitional compliance period because of the way the effective date of the final PCWP rule is set as the date of publication of the final Federal Register document. During this transitional period for existing sources, the previously promulgated rule requirements must be met until the compliance date (e.g., compliance with the SSM plan), and then the newly promulgated requirements must be met thereafter. The EPA anticipates that this transitional semiannual reporting period will occur before the PCWP semiannual electronic reporting spreadsheet is required to be used. To ensure this, we have revised the final rule to specify use of the semiannual reporting template for the first full reporting period after it has been available on the CEDRI website for 1 year.

Regarding the compliance timeline for repeat emissions testing, the compliance dates are included in the final rule as proposed. No comments were received regarding the compliance dates for repeat emissions testing. As proposed, the first of the repeat performance tests must be conducted within 3 years after August 13, 2020, or within 60 months following the previous performance test, whichever is later.

V. Summary of Cost, Environmental, and Economic Impacts and Additional Analyses Conducted

A. What are the affected facilities?

As noted in the preamble to the proposed amendments, the EPA identified 230 facilities that are operating and subject to the PCWP NESHAP. This includes 109 facilities manufacturing one or more PCWP products (e.g., plywood, veneer, particleboard, OSB, hardboard, fiberboard, MDF, engineered wood products) and 121 facilities that produce kiln-dried lumber. Sixteen facilities produce PCWP products and kiln-dried lumber. Information on operational facilities is included in the Technology Review for the Plywood and Composite Wood Products NESHAP, available as Docket Item No. EPA-HQ-OAR-2016-0243-0189. In addition, the EPA is aware of 13 greenfield facilities (four PCWP and nine kiln-dried lumber mills) that recently commenced construction as major sources of HAP emissions. The EPA is projecting that two new OSB mills will be constructed as major sources within the next 5 years, and that existing facilities will add or replace process units during this same time frame. More details on our projections of new sources are available in Projections of the Number of New and Reconstructed Sources for the Subpart DDDD Technology Review, available as Docket Item No. EPA-HQ-OAR-2016-0243-0182.

B. What are the air quality impacts?

The nationwide baseline HAP emissions from the 230 facilities in the PCWP source category are estimated to be 7,600 tpy. Emissions of the six compounds defined as “total HAP” in the PCWP NESHAP (acetaldehyde, acrolein, formaldehyde, methanol, phenol, and propionaldehyde) make up 96 percent of the nationwide emissions. The amendments include removal of the SSM exemption and addition of repeat emissions testing for controls other than biofilters (which already require repeat tests). Although the EPA is unable to quantify the emission reduction associated with these changes, we expect that emissions will be reduced by requiring facilities to meet the applicable standard during periods of SSM and that the repeat emissions testing requirements will encourage operation of add-on controls to achieve optimum performance. The EPA is not finalizing other revisions to the emission limits that would impact emissions, so there are no quantifiable air quality impacts resulting from the final amendments.

C. What are the cost impacts?

No capital costs are estimated to be incurred to comply with the final amendments. The costs associated with the final amendments are related to recordkeeping and reporting labor costs and repeat performance testing. Because repeat performance testing is required every 5 years, costs are estimated and summarized over a 5-year period. The nationwide cost of the final amendments is estimated to include a one-time cost of $1.3 million for facilities to review the revised rule and make record systems adjustments and a cost of $3.5 million every 5 years for repeat emissions testing. These costs are in 2018 dollars.

Another metric for presenting the one-time costs is as a present value (PV), which is a technique that converts a stream of costs over time into a one-time estimate for the present year or other year. The EPA estimates that the PV of costs for these final amendments is $5.6 million at a discount rate of 7 percent and $6.9 million at a discount rate of 3 percent. In addition, the EPA presents these costs as an equivalent annualized value (EAV) in order to provide an estimate of annual costs consistent with the PV. The EAV for these final amendments is estimated to be $0.9 million at a discount rate of 7 percent and $1.0 million at a discount rate of 3 percent. The PV and EAV cost estimates are in 2016 dollars, in part, to conform to Executive Order 13771 requirements. These estimates have not changed since the proposal. For further information on the costs associated with the amendments, see the memorandum, Cost, Environmental, and Energy Impacts of Regulatory Options for Subpart DDDD, Docket Item No. EPA-HQ-OAR-2016-0243-0184, and the memorandum, Economic Impact and Small Business Analysis for the Proposed Plywood and Composite Wood Products Risk and Technology Review (RTR) NESHAP, Docket Item No. EPA-HQ-OAR-2016-0243-0185.

D. What are the economic impacts?

The EPA estimated that none of the ultimate parent owners affected by the proposed amendments would incur annualized costs of 1.0 percent or greater of their revenues, and that estimate has not changed since proposal. Thus, these economic impacts are low for affected companies and the industries impacted by this action, and there will not be substantial impacts in the markets for affected products. For more information on the economic impact analysis conducted for the proposal, see the memorandum titled Economic Impact and Small Business Analysis for the Proposed Plywood and Composite Wood Risk and Technology Review (RTR) NESHAP, Docket Item No. EPA-HQ-OAR-2016-0243-0185.

E. What are the benefits?

The EPA is not finalizing changes to emissions limits, except to the extent necessary to make them applicable during SSM periods and to establish work practice requirements for certain startup and shutdown periods. The EPA estimates the final amendments (i.e., changes to SSM, recordkeeping, reporting, and monitoring) are not economically significant. Because these amendments are not considered economically significant, as defined by Executive Order 12866, and because no emissions reductions were estimated, the EPA did not estimate any benefits from reducing emissions.

F. What analysis of environmental justice did we conduct?

Executive Order 12898 (59 FR 7629, February 16, 1994) establishes federal executive policy on environmental justice. Its main provision directs federal agencies, to the greatest extent practicable and permitted by law, to make environmental justice part of their mission by identifying and addressing, as appropriate, disproportionately high and adverse human health or environmental effects of their programs, policies, and activities on minority populations and low-income populations in the United States.

To examine the potential for any environmental justice issues that might be associated with the source category, the EPA performed a demographic analysis, which is an assessment of risks to individual demographic groups of the populations living within 5 kilometers (km) and within 50 km of the facilities. In the analysis, we evaluated the distribution of HAP-related cancer and noncancer risks from each source category across different demographic groups within the populations living near facilities. The results of the PCWP source category demographic analysis indicate that emissions from the source category expose approximately 200,000 people to a cancer risk at or above 1-in-1 million and zero people to a chronic noncancer TOSHI greater than 1. The percentages of the at-risk population in four of the 11 demographic groups (African American, Native American, below poverty level, and over 25 without a high school diploma) are greater than their respective nationwide percentages.

The methodology and the results of the demographic analysis are presented in the technical report, Risk and Technology Review—Analysis of Demographic Factors for Populations Living Near Plywood and Composite Wood Products Source Category, Docket Item No. EPA-HQ-OAR-2016-0243-0181.

G. What analysis of children's environmental health did we conduct?

The EPA does not believe the environmental health or safety risks addressed by this action present a disproportionate risk to children. This action's health and risk assessments are contained in the Residual Risk Assessment for the Plywood and Composite Wood Products Source Category in Support of the 2019 Risk and Technology Review Final Rule, available in the docket for this action, Docket ID No. EPA-HQ-OAR-2016-0243.

VI. Statutory and Executive Order Reviews

Additional information about these statutes and Executive Orders can be found at https://www.epa.gov/laws-regulations/laws-and-executive-orders.

A. Executive Orders 12866: Regulatory Planning and Review and Executive Order 13563: Improving Regulation and Regulatory Review

This action is not a significant regulatory action and was, therefore, not submitted to the Office of Management and Budget (OMB) for review.

B. Executive Order 13771: Reducing Regulations and Controlling Regulatory Cost

This action is not an Executive Order 13771 regulatory action because this action is not significant under Executive Order 12866.

C. Paperwork Reduction Act (PRA)

The information collection activities in this final rule have been submitted for approval to OMB under the PRA. The ICR document that the EPA prepared has been assigned EPA ICR number 1984.09. You can find a copy of the ICR in the docket for this rule, and it is briefly summarized here. The information collection requirements are not enforceable until OMB approves them.

The information is being collected to assure compliance with 40 CFR part 63, subpart DDDD. The information requirements are based on notification, recordkeeping, and reporting requirements in the NESHAP General Provisions (40 CFR part 63, subpart A), which are mandatory for all operators subject to national emissions standards. The information collection activities also include paperwork requirements associated with initial and repeat performance testing and parameter monitoring. The final amendments to the rule eliminate the paperwork requirements associated with the SSM plan and recordkeeping of SSM events and require electronic submittal of performance test results and semiannual compliance reports. These recordkeeping and reporting requirements are specifically authorized by CAA section 114 (42 U.S.C. 7414).

Respondents/affected entities: Owners or operators of facilities subject to 40 CFR part 63, subpart DDDD, that produce plywood, composite wood products, or kiln-dried lumber.

Respondent's obligation to respond: Mandatory (40 CFR part 63, subpart DDDD).

Estimated number of respondents: 244 facilities (including existing and new facilities projected to begin reporting during the ICR period).

Frequency of response: The frequency varies depending on the type of response (e.g., initial notification, semiannual compliance report).

Total estimated burden: 39,700 hours (per year). Burden is defined at 5 CFR 1320.3(b).

Total estimated cost: $6,930,000 (per year), includes $2,365,000 annualized capital or operation and maintenance costs.

An agency may not conduct or sponsor, and a person is not required to respond to, a collection of information unless it displays a currently valid OMB control number. The OMB control numbers for the EPA's regulations in 40 CFR are listed in 40 CFR part 9. When OMB approves this ICR, the Agency will announce that approval in the Federal Register and publish a technical amendment to 40 CFR part 9 to display the OMB control number for the approved information collection activities contained in this final rule.

D. Regulatory Flexibility Act (RFA)

I certify that this action will not have a significant economic impact on a substantial number of small entities under the RFA. In making this determination, the impact of concern is any significant adverse economic impact on small entities. An agency may certify that a rule will not have a significant economic impact on a substantial number of small entities if the rule relieves regulatory burden, has no net burden, or otherwise has a positive economic effect on the small entities subject to the rule. Of the 69 ultimate parent entities that are subject to the rule, 28 are small according to the Small Business Administration's small business size standards and standards regarding other entities (e.g., federally recognized tribes). None of the affected 28 small entities have annualized costs of 1 percent or greater of sales. The EPA has, therefore, concluded that this action will not have a significant impact on a substantial number of small entities.

E. Unfunded Mandates Reform Act (UMRA)

This action does not contain an unfunded mandate of $100 million or more as described in UMRA, 2 U.S.C. 1531-1538, and does not significantly or uniquely affect small governments. While this action creates an enforceable duty on the private sector, the cost does not exceed $100 million or more.

F. Executive Order 13132: Federalism

This action does not have federalism implications. It will not have substantial direct effects on the states, on the relationship between the National Government and the states, or on the distribution of power and responsibilities among the various levels of government.

G. Executive Order 13175: Consultation and Coordination With Indian Tribal Governments

This action does not have tribal implications as specified in Executive Order 13175. It will not have substantial direct effects on tribal governments, on the relationship between the Federal Government and Indian tribes, or on the distribution of power and responsibilities between the Federal Government and Indian tribes. No tribal governments own facilities that are impacted by the proposed changes to the NESHAP. Thus, Executive Order 13175 does not apply to this action.

H. Executive Order 13045: Protection of Children From Environmental Health Risks and Safety Risks

This action is not subject to Executive Order 13045 because it is not economically significant as defined in Executive Order 12866, and because the EPA does not believe the environmental health or safety risks addressed by this action present a disproportionate risk to children. This action's health and risk assessments are discussed in sections III and IV of this preamble and further documented in the risk report titled Residual Risk Assessment for the Plywood and Composite Wood Products Source Category in Support of the 2019 Risk and Technology Review Final Rule, which can be found in the docket for this action.

I. Executive Order 13211: Actions Concerning Regulations That Significantly Affect Energy Supply, Distribution, or Use

This action is not subject to Executive Order 13211, because it is not a significant regulatory action under Executive Order 12866.

J. National Technology Transfer and Advancement Act (NTTAA) and 1 CFR Part 51

This action involves technical standards. The EPA is finalizing the use of the standards currently listed in Table 4 of the rule (40 CFR part 63, subpart DDDD). The EPA is amending 40 CFR 63.14 to incorporate by reference EPA Method 0011 for measurement of formaldehyde. Method 0011 is applicable to the determination of destruction and removal efficiency of analytes including formaldehyde and other compounds. Pollutants withdrawn isokinetically from the emission source and are collected in aqueous acidic 2,4-dinitrophenylhydrazine. Formaldehyde present in the emission stream reacts to form a derivative that extracted, solvent-exchanged, concentrated, and then analyzed by high performance liquid chromatography. The SW-846 Method 0011 (Revision 0, December 1996) is available in “Test Methods for Evaluating Solid Waste, Physical/Chemical Methods,” EPA Publication No. SW-846. This method was included in the PCWP rule when it was promulgated in 2004 and is reasonably available from the EPA at https://www.epa.gov/hw-sw846/sw-846-compendium. Under 40 CFR 63.7(f) and 40 CFR 63.8(f) of subpart A of the General Provisions, a source may apply to the EPA for permission to use alternative test methods or alternative monitoring requirements in place of any required testing methods, performance specifications, or procedures in the final rule or any amendments.

The following standards, referenced in the regulatory text, are already approved for incorporation by reference at their respective locations: NCASI Method CI/WP-98.01; NCASI Method IM/CAN/WP-99.02; NCASI Method ISS/FP-A105.01; ASTM D6348-03.

K. Executive Order 12898: Federal Actions To Address Environmental Justice in Minority Populations and Low-Income Populations

The EPA believes that this action does not have disproportionately high and adverse human health or environmental effects on minority populations, low income populations, and/or indigenous peoples, as specified in Executive Order 12898 (59 FR 7629, February 16, 1994).

The documentation for this decision is contained in section IV.A.6 of the preamble to the proposed amendments (84 FR 47074, September 6, 2019) and the technical report, Risk and Technology Review—Analysis of Demographic Factors for Populations Living Near Plywood and Composite Wood Products Source Category, Docket Item No. EPA-HQ-OAR-2016-0243-0181.

L. Congressional Review Act (CRA)

This action is subject to the CRA, and the EPA will submit a rule report to each House of the Congress and to the Comptroller General of the United States. This action is not a “major rule” as defined by U.S.C. 804(2).

List of Subjects in 40 CFR Part 63

Environmental protection, Administrative practice and procedures, Air pollution control, Hazardous substances, Incorporation by reference, Intergovernmental relations, Reporting and recordkeeping requirements.

Andrew Wheeler,
Administrator.

For the reasons set forth in the preamble, 40 CFR part 63 is amended as follows:

PART 63—NATIONAL EMISSION STANDARDS FOR HAZARDOUS AIR POLLUTANTS FOR SOURCE CATEGORIES

1. The authority citation for part 63 continues to read as follows:

Authority: 42 U.S.C. 7401 et seq.

Subpart A—General Provisions

2. Section 63.14 is amended by redesignating paragraphs (n)(8) through (28) as (n)(9) through (29) and adding new paragraph (n)(8) to read as follows:

§ 63.14 Incorporations by reference.

* * * * *

(n) * * *

(8) SW-846-0011, Sampling for Selected Aldehyde and Ketone Emissions from Stationary Sources, Revision 0, December 1996, in EPA Publication No. SW-846, Test Methods for Evaluating Solid Waste, Physical/Chemical Methods, Third Edition, IBR approved for table 4 to subpart DDDD.

* * * * *

Subpart DDDD—National Emission Standards for Hazardous Air Pollutants: Plywood and Composite Wood Products

3. Section 63.2233 is amended by revising paragraphs (a)(1) and (2) and (b) to read as follows:

§ 63.2233 When do I have to comply with this subpart?

(a) * * *

(1) If the initial startup of your affected source is before September 28, 2004, then you must comply with the compliance options, operating requirements, and work practice requirements for new and reconstructed sources in this subpart no later than September 28, 2004, except as otherwise specified in §§ 63.2250, 63.2280(b) and (d), 63.2281(b)(6), and 63.2282(a)(2) and Tables 3, 6, 7, 8, 9, and 10 to this subpart.

(2) If the initial startup of your affected source is after September 28, 2004, then you must comply with the compliance options, operating requirements, and work practice requirements for new and reconstructed sources in this subpart upon initial startup of your affected source, except as otherwise specified in §§ 63.2250, 63.2280(b) and (d), 63.2281(b)(6), and 63.2282(a)(2) and Tables 3, 6, 7, 8, 9, and 10 to this subpart.

(b) If you have an existing affected source, you must comply with the compliance options, operating requirements, and work practice requirements for existing sources no later than October 1, 2007, except as otherwise specified in §§ 63.2240(c)(2)(vi)(A), 63.2250, 63.2280(b) and (d), 63.2281(b)(6) and (c)(4), and 63.2282(a)(2) and Tables 3, 6, 7, 8, 9, and 10 to this subpart.

* * * * *

4. Section 63.2240 is amended by revising paragraph (c)(2)(vi)(A) to read as follows:

§ 63.2240 What are the compliance options and operating requirements and how must I meet them?

* * * * *

(c) * * *

(2) * * *

(vi) * * *

(A) Before August 13, 2021, emissions during periods of startup, shutdown, and malfunction as described in the startup, shutdown, and malfunction plan (SSMP). On and after August 13, 2021, emissions during safety-related shutdowns, pressurized refiner startups and shutdowns, or startup and shutdown of direct-fired softwood veneer dryer gas-fired burners.

* * * * *

5. Section 63.2250 is amended by:

a. Adding two sentences to the end of paragraph (a);

b. Revising paragraphs (b) and (c); and

c. Adding paragraphs (e) through (g).

The revisions and additions read as follows:

§ 63.2250 What are the general requirements?

(a) * * * For any affected source that commences construction or reconstruction after September 6, 2019, this paragraph (a) does not apply on and after August 13, 2020 or initial startup of the affected source, whichever is later. For all other affected sources, this paragraph (a) does not apply on and after August 13, 2021.

(b) You must always operate and maintain your affected source, including air pollution control and monitoring equipment according to the provisions in § 63.6(e)(1)(i). For any affected source that commences construction or reconstruction after September 6, 2019, this paragraph (b) does not apply on and after August 13, 2020 or initial startup of the affected source, whichever is later. For all other affected sources, this paragraph (b) does not apply on and after August 13, 2021.

(c) You must develop a written SSMP according to the provisions in § 63.6(e)(3). For any affected source that commences construction or reconstruction after September 6, 2019, this paragraph (c) does not apply on and after August 13, 2020 or initial startup of the affected source, whichever is later. For all other affected sources, this paragraph (c) does not apply on and after August 13, 2021.

* * * * *

(e) You must be in compliance with the provisions of subpart A of this part, except as noted in Table 10 to this subpart.

(f) Upon August 13, 2020 or initial startup of the affected source, whichever is later, for affected sources that commenced construction or reconstruction after September 6, 2019, and on and after August 13, 2021 for all other affected sources, you must be in compliance with the compliance options, operating requirements, and the work practice requirements in this subpart when the process unit(s) subject to the compliance options, operating requirements, and work practice requirements are operating, except as specified in paragraphs (f)(1) through (6) of this section.

(1) Prior to process unit initial startup.

(2) During safety-related shutdowns conducted according to the work practice requirement in Table 3 to this subpart.

(3) During pressurized refiner startup and shutdown according to the work practice requirement in Table 3 to this subpart.

(4) During startup and shutdown of direct-fired softwood veneer dryer gas-fired burners according to the work practice requirement in Table 3 to this subpart.

(5) You must minimize the length of time when compliance options and operating requirements in this subpart are not met due to the conditions in paragraphs (f)(2) and (4) of this section.

(6) The applicable standard during each of the operating conditions specified in paragraphs (f)(2) through (4) of this section are the work practice requirements in Table 3 to this subpart for safety-related shutdowns (row 6), pressurized refiner startup and shutdown (row 7), and direct-fired softwood veneer dryers undergoing startup or shutdown of gas-fired burners (row 8). The otherwise applicable compliance options, operating requirements, and work practice requirements (in rows 1 through 5 of Table 3 to this subpart) do not apply during the operating conditions specified in paragraphs (f)(2) through (4) of this section.

(g) For affected sources that commenced construction or reconstruction after September 6, 2019, and for all other affected sources on and after August 13, 2021, you must always operate and maintain your affected source, including air pollution control and monitoring equipment in a manner consistent with good air pollution control practices for minimizing emissions at least to the levels required by this subpart. The general duty to minimize emissions does not require you to make any further efforts to reduce emissions if levels required by the applicable standard have been achieved. Determination of whether a source is operating in compliance with operation and maintenance requirements will be based on information available to the Administrator which may include, but is not limited to, monitoring results, review of operation and maintenance procedures, review of operation and maintenance records, and inspection of the source.

6. Section 63.2252 is revised to read as follows:

§ 63.2252 What are the requirements for process units that have no control or work practice requirements?

For process units not subject to the compliance options or work practice requirements specified in § 63.2240 (including, but not limited to, lumber kilns), you are not required to comply with the compliance options, work practice requirements, performance testing, monitoring, and recordkeeping or reporting requirements of this subpart, or any other requirements in subpart A of this part, except for the initial notification requirements in § 63.9(b).

7. Section 63.2262 is amended by revising paragraphs (a), (b), (m)(1), and (n)(1) to read as follows:

§ 63.2262 How do I conduct performance tests and establish operating requirements?

(a) Testing procedures. You must conduct each performance test according to the requirements in paragraphs (b) through (o) of this section and according to the methods specified in Table 4 to this subpart.

(b) Periods when performance tests must be conducted. You must conduct each performance test based on representative performance (i.e., performance based on representative operating conditions as defined in § 63.2292) of the affected source for the period being tested. Representative conditions exclude periods of startup and shutdown. You may not conduct performance tests during periods of malfunction. You must describe representative operating conditions in your performance test report for the process and control systems and explain why they are representative. You must record the process information that is necessary to document operating conditions during the test and include in such record an explanation to support that such conditions are representative. Upon request, you shall make available to the Administrator such records as may be necessary to determine the conditions of performance tests.

* * * * *

(m) * * *

(1) During the performance test, you must continuously monitor the biofilter bed temperature during each of the required 1-hour test runs. To monitor biofilter bed temperature, you may use multiple thermocouples in representative locations throughout the biofilter bed and calculate the average biofilter bed temperature across these thermocouples prior to reducing the temperature data to 15-minute averages for purposes of establishing biofilter bed temperature limits. The biofilter bed temperature range must be established as the temperature values 10 percent below the minimum and 10 percent (not to exceed 8° F) above the maximum 15-minute biofilter bed temperatures monitored during the three test runs. You may base your biofilter bed temperature range on values recorded during previous performance tests provided that the data used to establish the temperature ranges have been obtained using the test methods required in this subpart. If you use data from previous performance tests, you must certify that the biofilter and associated process unit(s) have not been modified subsequent to the date of the performance tests. Replacement of the biofilter media with the same type of material is not considered a modification of the biofilter for purposes of this section.

* * * * *

(n) * * *

(1) During the performance test, you must identify and document the process unit controlling parameter(s) that affect total HAP emissions during the three-run performance test. The controlling parameters you identify must coincide with the representative operating conditions you describe according to paragraph (b) of this section. For each parameter, you must specify appropriate monitoring methods, monitoring frequencies, and for continuously monitored parameters, averaging times not to exceed 24 hours. The operating limit for each controlling parameter must then be established as the minimum, maximum, range, or average (as appropriate depending on the parameter) recorded during the performance test. Multiple three-run performance tests may be conducted to establish a range of parameter values under different operating conditions.

* * * * *

8. Section 63.2269 is amended by revising paragraphs (b)(4) and (5) to read as follows:

§ 63.2269 What are my monitoring installation, operation, and maintenance requirements?

* * * * *

(b) * * *

(4) Validate the temperature sensor's reading at least semiannually using the requirements of paragraph (b)(4)(i), (ii), (iii), (iv), or (v) of this section:

(i) Compare measured readings to a National Institute of Standards and Technology (NIST) traceable temperature measurement device or simulate a typical operating temperature using a NIST traceable temperature simulation device. When the temperature measurement device method is used, the sensor of the NIST traceable calibrated device must be placed as close as practicable to the process sensor, and both devices must be subjected to the same environmental conditions. The accuracy of the temperature measured must be 2.5 percent of the temperature measured by the NIST traceable device or 5 °F, whichever is greater.

(ii) Follow applicable procedures in the thermocouple manufacturer owner's manual.

(iii) Request thermocouple manufacturer to certify or re-certify electromotive force (electrical properties) of the thermocouple.

(iv) Replace thermocouple with a new certified thermocouple in lieu of validation.

(v) Permanently install a redundant temperature sensor as close as practicable to the process temperature sensor. The sensors must yield a reading within 30 °F of each other for thermal oxidizers and catalytic oxidizers; within 5 °F of each other for biofilters; and within 20 °F of each other for dry rotary dryers.

(5) Conduct validation checks using the procedures in paragraph (b)(4) of this section any time the sensor exceeds the manufacturer's specified maximum operating temperature range or install a new temperature sensor.

* * * * *

9. Section 63.2270 is amended by revising paragraph (c) to read as follows:

§ 63.2270 How do I monitor and collect data to demonstrate continuous compliance?

* * * * *

(c) You may not use data recorded during monitoring malfunctions, associated repairs, and required quality assurance or control activities or data recorded during periods of safety-related shutdown, pressurized refiner startup or shutdown, startup and shutdown of direct-fired softwood veneer dryer gas-fired burners, or control device downtime covered in any approved routine control device maintenance exemption in data averages and calculations used to report emission or operating levels, nor may such data be used in fulfilling a minimum data availability requirement, if applicable. You must use all the data collected during all other periods in assessing the operation of the control system.

* * * * *

10. Section 63.2271 is amended by:

a. Revising paragraph (b) introductory text;

b. Removing and reserving paragraph (b)(2); and

c. Adding paragraph (b)(4).

The revisions and additions read as follows:

§ 63.2271 How do I demonstrate continuous compliance with the compliance options, operating requirements, and work practice requirements?

* * * * *

(b) You must report each instance in which you did not meet each compliance option, operating requirement, and work practice requirement in Tables 7 and 8 to this subpart that applies to you. This includes periods of startup, shutdown, and malfunction and periods of control device maintenance specified in paragraphs (b)(1) through (4) of this section. These instances are deviations from the compliance options, operating requirements, and work practice requirements in this subpart. These deviations must be reported according to the requirements in § 63.2281.

* * * * *

(4) Instances of safety-related shutdown, pressurized refiner startup and shutdown, and startup and shutdown of direct-fired softwood veneer dryer gas-fired burners subject to the work practice requirements in Table 3 to this subpart (rows 6 through 8) must be reported as required in § 63.2281(c)(4). Instances when the work practice requirements in Table 3 to this subpart (rows 6 through 8) are used are not considered to be deviations from (or violations of) the otherwise applicable compliance options, operating requirements and work practice requirements (in rows 1 through 5 of Table 3 to this subpart) as long as you do not exceed the minimum amount of time necessary for these events.

11. Section 63.2280 is amended by revising paragraphs (b), (d) introductory text, and (d)(2) to read as follows:

§ 63.2280 What notifications must I submit and when?

* * * * *

(b) You must submit an Initial Notification no later than 120 calendar days after September 28, 2004, or after initial startup, whichever is later, as specified in § 63.9(b)(2). Initial Notifications required to be submitted after August 13, 2020 for affected sources that commence construction or reconstruction after September 6, 2019, and on and after August 13, 2021 for all other affected sources submitting initial notifications required in § 63.9(b) must be submitted following the procedure specified in § 63.2281(h), (k), and (l).

* * * * *

(d) If you are required to conduct a performance test, design evaluation, or other compliance demonstration as specified in Tables 4, 5, and 6 to this subpart, or a repeat performance test as specified in Table 7 to this subpart, you must submit a Notification of Compliance Status as specified in § 63.9(h)(2)(ii). After August 13, 2020 for affected sources that commence construction or reconstruction after September 6, 2019, and on and after August 13, 2021 for all other affected sources, submit all subsequent Notifications of Compliance Status following the procedure specified in § 63.2281(h), (k), and (l).

* * * * *

(2) For each compliance demonstration required in Tables 5, 6, and 7 to this subpart that includes a performance test conducted according to the requirements in Table 4 to this subpart, you must submit the Notification of Compliance Status, including a summary of the performance test results, before the close of business on the 60th calendar day following the completion of the performance test.

* * * * *

12. Section 63.2281 is amended by:

a. Revising paragraph (b) introductory text;

b. Adding paragraph (b)(6);

c. Revising paragraph (c)(4);

d. Removing and reserving paragraph (c)(6);

e. Revising paragraph (d)(2);

f. Revising the first sentence of paragraph (e) introductory text;

g. Removing and reserving paragraph (e)(1);

h. Revising paragraph (e)(2);

i. Adding paragraphs (e)(12) and (13); and

j. Adding paragraphs (h) through (l).

The revisions and additions read as follows:

§ 63.2281 What reports must I submit and when?

* * * * *

(b) Unless the EPA Administrator has approved a different schedule for submission of reports under § 63.10(a), you must submit each report by the date in Table 9 to this subpart and as specified in paragraphs (b)(1) through (6) of this section.

* * * * *

(6) After August 13, 2020 for affected sources that commenced construction or reconstruction after September 6, 2019, and on and after August 13, 2021 for all other affected sources, submit all subsequent reports following the procedure specified in paragraphs (h), (k) and (l) of this section.

(c) * * *

(4) If you had a startup, shutdown, or malfunction during the reporting period and you took actions consistent with your SSMP, the compliance report must include the information specified in § 63.10(d)(5)(i) before August 13, 2021 for affected sources that commenced construction or reconstruction before September 6, 2019. After August 13, 2020 for affected sources that commenced construction or reconstruction after September 6, 2019, and on and after August 13, 2021 for all other affected sources, the compliance report must include the number of instances and total amount of time during the reporting period in which each of the startup/shutdown work practice requirements in Table 3 to this subpart (rows 6 through 8) is used in place of the otherwise applicable compliance options, operating requirements, and work practice requirements (in Table 3 to this subpart rows 1 through 5). If a startup/shutdown work practice in Table 3 to this subpart (rows 6 through 8) is used for more than a total of 100 hours during the semiannual reporting period, you must report the date, time and duration of each instance when that startup/shutdown work practice was used.

* * * * *

(d) * * *

(2) Information on the date, time, duration, and cause of deviations (including unknown cause, if applicable), as applicable, and the corrective action taken.

(e) For each deviation from a compliance option, operating requirement, or work practice requirement occurring at an affected source where you are using a CMS to comply with the compliance options, operating requirements, or work practice requirements in this subpart, you must include the information in paragraphs (c)(1) through (6) and (e)(1) through (13) of this section. * * *

* * * * *

(2) The date, time, and duration that each CMS was inoperative, except for zero (low-level) and high-level checks.

* * * * *

(12) For any failure to meet a compliance option in § 63.2240, including the compliance options in Table 1A or 1B to this subpart or the emissions averaging compliance option, provide an estimate of the quantity of each regulated pollutant emitted over any emission limit, and a description of the method used to estimate the emissions.

(13) The total operating time of each affected source during the reporting period.

* * * * *

(h) If you are required to submit reports following the procedure specified in this paragraph (h), you must submit reports to the EPA via the Compliance and Emissions Data Reporting Interface (CEDRI), which can be accessed through the EPA's Central Data Exchange (CDX) (https://cdx.epa.gov/). The EPA will make all the information submitted through CEDRI available to the public without further notice to you. Do not use CEDRI to submit information you claim as confidential business information (CBI). Anything submitted using CEDRI cannot later be claimed to be CBI. For semiannual compliance reports required in this section and Table 9 (row 1) to this subpart, you must use the appropriate electronic report template on the CEDRI website (https://www.epa.gov/electronic-reporting-air-emissions/compliance-and-emissions-data-reporting-interface-cedri) for this subpart once the reporting template has been available on the CEDRI website for 1 year. The date report templates become available will be listed on the CEDRI website. If the reporting form for the semiannual compliance report specific to this subpart is not available in CEDRI at the time that the report is due, you must submit the report to the Administrator at the appropriate addresses listed in § 63.13. You must begin submitting all subsequent reports via CEDRI in the first full reporting period after the report template for this subpart has been available in CEDRI for 1 year. Initial Notifications developed according to § 63.2280(b) and Notifications of Compliance Status developed according to § 63.2280(d) may be uploaded in a user-specified format such as portable document format (PDF). The report must be submitted by the deadline specified in this subpart, regardless of the method in which the report is submitted. Although we do not expect persons to assert a claim of CBI, if persons wish to assert a CBI claim, submit a complete report, including information claimed to be CBI, to the EPA. The report must be generated using the appropriate form on the CEDRI website. Submit the file on a compact disc, flash drive, or other commonly used electronic storage medium and clearly mark the medium as CBI. Mail the electronic medium to U.S. EPA/OAQPS/CORE CBI Office, Attention: Group Leader, Measurement Policy Group, MD C404-02, 4930 Old Page Rd., Durham, NC 27703. The same file with the CBI omitted must be submitted to the EPA via the EPA's CDX. All CBI claims must be asserted at the time of submission. Furthermore, under CAA section 114(c) emissions data is not entitled to confidential treatment and requires EPA to make emissions data available to the public. Thus, emissions data will not be protected as CBI and will be made publicly available.

(i) Within 60 days after the date of completing each performance test required by this subpart, you must submit the results of the performance test following the procedures specified in paragraphs (i)(1) through (3) of this section.

(1) Data collected using test methods supported by the EPA's Electronic Reporting Tool (ERT) as listed on the EPA's ERT website (https://www.epa.gov/electronic-reporting-air-emissions/electronic-reporting-tool-ert) at the time of the test. Submit the results of the performance test to the EPA via CEDRI, which can be accessed through the EPA's CDX (https://cdx.epa.gov/). The data must be submitted in a file format generated through the use of the EPA's ERT. Alternatively, you may submit an electronic file consistent with the extensible markup language (XML) schema listed on the EPA's ERT website.

(2) Data collected using test methods that are not supported by the EPA's ERT as listed on the EPA's ERT website at the time of the test. The results of the performance test must be included as an attachment in the ERT or an alternate electronic file consistent with the XML schema listed on the EPA's ERT website. Submit the ERT generated package or alternative file to the EPA via CEDRI.

(3) Confidential Business Information (CBI). The EPA will make all the information submitted through CEDRI available to the public without further notice to you. Do not use CEDRI to submit information you claim as CBI. Anything submitted using CEDRI cannot later be claimed to be CBI. Although we do not expect persons to assert a claim of CBI, if you claim some of the information submitted under this paragraph (i) is CBI, you must submit a complete file, including information claimed to be CBI, to the EPA. The file must be generated through the use of the EPA's ERT or an alternate electronic file consistent with the XML schema listed on the EPA's ERT website. Submit the file on a compact disc, flash drive, or other commonly used electronic storage medium and clearly mark the medium as CBI. Mail the electronic medium to U.S. EPA/OAQPS/CORE CBI Office, Attention: Group Leader, Measurement Policy Group, MD C404-02, 4930 Old Page Rd., Durham, NC 27703. The same file with the CBI omitted must be submitted to the EPA via the EPA's CDX as described in this paragraph (i). All CBI claims must be asserted at the time of submission. Furthermore, under CAA section 114(c) emissions data is not entitled to confidential treatment and requires EPA to make emissions data available to the public. Thus, emissions data will not be protected as CBI and will be made publicly available.

(j) Within 60 days after the date of completing each continuous monitoring system (CMS) performance evaluation (as defined in § 63.2), you must submit the results of the performance evaluation following the procedures specified in paragraphs (j)(1) through (3) of this section.

(1) Performance evaluations of CMS measuring relative accuracy test audit (RATA) pollutants that are supported by the EPA's ERT as listed on the EPA's ERT website at the time of the evaluation. Submit the results of the performance evaluation to the EPA via CEDRI, which can be accessed through the EPA's CDX. The data must be submitted in a file format generated through the use of the EPA's ERT. Alternatively, you may submit an electronic file consistent with the XML schema listed on the EPA's ERT website.

(2) Performance evaluations of CMS measuring RATA pollutants that are not supported by the EPA's ERT as listed on the EPA's ERT website at the time of the evaluation. The results of the performance evaluation must be included as an attachment in the ERT or an alternate electronic file consistent with the XML schema listed on the EPA's ERT website. Submit the ERT generated package or alternative file to the EPA via CEDRI.

(3) Confidential Business Information (CBI). The EPA will make all the information submitted through CEDRI available to the public without further notice to you. Do not use CEDRI to submit information you claim as CBI. Anything submitted using CEDRI cannot later be claimed to be CBI. Although we do not expect persons to assert a claim of CBI, if you claim some of the information submitted under this paragraph (j) is CBI, you must submit a complete file, including information claimed to be CBI, to the EPA. The file must be generated through the use of the EPA's ERT or an alternate electronic file consistent with the XML schema listed on the EPA's ERT website. Submit the file on a compact disc, flash drive, or other commonly used electronic storage medium and clearly mark the medium as CBI. Mail the electronic medium to U.S. EPA/OAQPS/CORE CBI Office, Attention: Group Leader, Measurement Policy Group, MD C404-02, 4930 Old Page Rd., Durham, NC 27703. The same file with the CBI omitted must be submitted to the EPA via the EPA's CDX as described in this paragraph (j). All CBI claims must be asserted at the time of submission. Furthermore, under CAA section 114(c) emissions data is not entitled to confidential treatment and requires EPA to make emissions data available to the public. Thus, emissions data will not be protected as CBI and will be made publicly available.

(k) If you are required to electronically submit a report or notification through CEDRI in the EPA's CDX by this subpart, you may assert a claim of EPA system outage for failure to timely comply with the electronic submittal reporting requirement in this section. To assert a claim of EPA system outage, you must meet the requirements outlined in paragraphs (k)(1) through (7) of this section.

(1) You must have been or will be precluded from accessing CEDRI and submitting a required report within the time prescribed due to an outage of either the EPA's CEDRI or CDX systems.

(2) The outage must have occurred within the period of time beginning 5 business days prior to the date that the submission is due.

(3) The outage may be planned or unplanned.

(4) You must submit notification to the Administrator in writing as soon as possible following the date you first knew, or through due diligence should have known, that the event may cause or has caused a delay in reporting.

(5) You must provide to the Administrator a written description identifying:

(i) The date(s) and time(s) when CDX or CEDRI was accessed and the system was unavailable;

(ii) A rationale for attributing the delay in reporting beyond the regulatory deadline to EPA system outage;

(iii) Measures taken or to be taken to minimize the delay in reporting; and

(iv) The date by which you propose to report, or if you have already met the electronic submittal requirement in this subpart at the time of the notification, the date you submitted the report.

(6) The decision to accept the claim of EPA system outage and allow an extension to the reporting deadline is solely within the discretion of the Administrator.

(7) In any circumstance, the report must be submitted electronically as soon as possible after the outage is resolved.

(l) If you are required to electronically submit a report through CEDRI in the EPA's CDX by this subpart, you may assert a claim of force majeure for failure to timely comply with the electronic submittal requirement in this section. To assert a claim of force majeure, you must meet the requirements outlined in paragraphs (l)(1) through (5) of this section.

(1) You may submit a claim if a force majeure event is about to occur, occurs, or has occurred or there are lingering effects from such an event within the period of time beginning five business days prior to the date the submission is due. For the purposes of this section, a force majeure event is defined as an event that will be or has been caused by circumstances beyond the control of the affected facility, its contractors, or any entity controlled by the affected facility that prevents you from complying with the requirement to submit a report electronically within the time period prescribed. Examples of such events are acts of nature (e.g., hurricanes, earthquakes, or floods), acts of war or terrorism, or equipment failure or safety hazard beyond the control of the affected facility (e.g., large scale power outage).

(2) You must submit notification to the Administrator in writing as soon as possible following the date you first knew, or through due diligence should have known, that the event may cause or has caused a delay in reporting.

(3) You must provide to the Administrator:

(i) A written description of the force majeure event;

(ii) A rationale for attributing the delay in reporting beyond the regulatory deadline to the force majeure event;

(iii) Measures taken or to be taken to minimize the delay in reporting; and

(iv) The date by which you propose to report, or if you have already met the electronic submittal requirement in this subpart at the time of the notification, the date you submitted the report.

(4) The decision to accept the claim of force majeure and allow an extension to the reporting deadline is solely within the discretion of the Administrator.

(5) In any circumstance, the reporting must occur as soon as possible after the force majeure event occurs.

13. Section 63.2282 is amended by revising paragraphs (a)(2) and (c)(2) and adding paragraph (f) to read as follows:

§ 63.2282 What records must I keep?

(a) * * *

(2) Before August 13, 2021, the records in § 63.6(e)(3)(iii) through (v) related to startup, shutdown, and malfunction for affected sources that commenced construction or reconstruction before September 6, 2019. After August 13, 2021] for affected sources that commenced construction or reconstruction after September 6, 2019, and on and after August 13, 2021 for all other affected sources, the records related to startup and shutdown, failures to meet the standard, and actions taken to minimize emissions, specified in paragraphs (a)(2)(i) through (iv) of this section.

(i) Record the date, time, and duration of each startup and/or shutdown period, including the periods when the affected source was subject to the standard applicable to startup and shutdown.

(ii) In the event that an affected unit fails to meet an applicable standard, record the number of failures; for each failure, record the date, time, cause and duration of each failure.

(iii) For each failure to meet an applicable standard, record and retain a list of the affected sources or equipment, and the following information:

(A) For any failure to meet a compliance option in § 63.2240, including the compliance options in Table 1A or 1B to this subpart or the emissions averaging compliance option, record an estimate of the quantity of each regulated pollutant emitted over any emission limit and a description of the method used to estimate the emissions.

(B) For each failure to meet an operating requirement in Table 2 to this subpart or work practice requirement in Table 3 to this subpart, maintain sufficient information to estimate the quantity of each regulated pollutant emitted over the emission limit. This information must be sufficient to provide a reliable emissions estimate if requested by the Administrator.

(iv) Record actions taken to minimize emissions in accordance with § 63.2250(g), and any corrective actions taken to return the affected unit to its normal or usual manner of operation.

* * * * *

(c) * * *

(2) Previous (i.e., superseded) versions of the performance evaluation plan, with the program of corrective action included in the plan required under § 63.8(d)(2).

* * * * *

(f) You must keep the written CMS quality control procedures required by § 63.8(d)(2) on record for the life of the affected source or until the affected source is no longer subject to the provisions of this subpart, to be made available for inspection, upon request, by the Administrator. If the performance evaluation plan is revised, you must keep previous (i.e., superseded) versions of the performance evaluation plan on record to be made available for inspection, upon request, by the Administrator, for a period of 5 years after each revision to the plan. The program of corrective action should be included in the plan required under § 63.8(d)(2).

14. Section 63.2283 is amended by adding paragraph (d) to read as follows:

§ 63.2283 In what form and how long must I keep my records?

* * * * *

(d) Any records required to be maintained by this part that are submitted electronically via the EPA's CEDRI may be maintained in electronic format. This ability to maintain electronic copies does not affect the requirement for facilities to make records, data, and reports available upon request to a delegated air agency or the EPA as part of an on-site compliance evaluation.

15. Section 63.2290 is revised to read as follows:

§ 63.2290 What parts of the general provisions apply to me?

Table 10 to this subpart shows which parts of the general provisions in §§ 63.1 through 63.16 apply to you.

16. Section 63.2291 is amended by revising paragraph (c) introductory text and adding paragraph (c)(5) to read as follows:

§ 63.2291 Who implements and enforces this subpart?

* * * * *

(c) The authorities that will not be delegated to State, local, or tribal agencies are listed in paragraphs (c)(1) through (5) of this section.

* * * * *

(5) Approval of an alternative to any electronic reporting to the EPA required by this subpart.

17. Section 63.2292 is amended by:

a. Revising the definitions of “MSF,” “Non-HAP coating,” and “Representative operating conditions”;

b. Adding the definition of “Safety-related shutdown” in alphabetical order; and

c. Removing the definition of “Startup, shutdown, and malfunction plan.”

The revisions and addition read as follows:

§ 63.2292 What definitions apply to this subpart?

* * * * *

MSF means thousand square feet (92.9 square meters). Square footage of panels is usually measured on a thickness basis, such as ⅜-inch, to define the total volume of panels. Equation 3 of § 63.2262(j) shows how to convert from one thickness basis to another.

* * * * *

Non-HAP coating means a coating with HAP contents below 0.1 percent by mass for Occupational Safety and Health Administration-defined carcinogens as specified in section A.6.4 of appendix A to 29 CFR 1910.1200, and below 1.0 percent by mass for other HAP compounds.

* * * * *

Representative operating conditions means operation of a process unit during performance testing under the conditions that the process unit will typically be operating in the future, including use of a representative range of materials (e.g., wood material of a typical species mix and moisture content or typical resin formulation) and representative operating temperature range. Representative operating conditions exclude periods of startup and shutdown.

* * * * *

Safety-related shutdown means an unscheduled shutdown of a process unit subject to a compliance option in Table 1B to this subpart (or a process unit with HAP control under an emissions averaging plan developed according to § 63.2240(c)) during which time emissions from the process unit cannot be safely routed to the control system in place to meet the compliance options or operating requirements in this subpart without imminent danger to the process, control system, or system operator.

* * * * *

18. Table 2 to subpart DDDD is revised to read as follows:

Table 2 to Subpart DDDD of Part 63—Operating Requirements
If you operate a(n) . . . | You must . . . | Or you must . . .
(1) Thermal oxidizer | Maintain the 3-hour block average firebox temperature above the minimum temperature established during the performance test | Maintain the 3-hour block average THC concentration ¹ in the thermal oxidizer exhaust below the maximum concentration established during the performance test.
(2) Catalytic oxidizer | Maintain the 3-hour block average catalytic oxidizer temperature above the minimum temperature established during the performance test; AND check the activity level of a representative sample of the catalyst annually except as specified in footnote “2” to this table | Maintain the 3-hour block average THC concentration ¹ in the catalytic oxidizer exhaust below the maximum concentration established during the performance test.
(3) Biofilter | Maintain the 24-hour block biofilter bed temperature within the range established according to § 63.2262(m) | Maintain the 24-hour block average THC concentration ¹ in the biofilter exhaust below the maximum concentration established during the performance test.
(4) Control device other than a thermal oxidizer, catalytic oxidizer, or biofilter | Petition the EPA Administrator for site-specific operating parameter(s) to be established during the performance test and maintain the average operating parameter(s) within the range(s) established during the performance test | Maintain the 3-hour block average THC concentration ¹ in the control device exhaust below the maximum concentration established during the performance test.
(5) Process unit that meets a compliance option in Table 1A to this subpart, or a process unit that generates debits in an emissions average without the use of a control device | Maintain on a daily basis the process unit controlling operating parameter(s) within the ranges established during the performance test according to § 63.2262(n) | Maintain the 3-hour block average THC concentration ¹ in the process unit exhaust below the maximum concentration established during the performance test.
¹ You may choose to subtract methane from THC measurements.
² You may forego the annual catalyst activity check during the calendar year when a performance test is conducted according to Table 4 to this subpart.

19. Table 3 to subpart DDDD is revised to read as follows:

Table 3 to Subpart DDDD of Part 63—Work Practice Requirements
For the following process units at existing or new affected sources . . . | You must . . .
(1) Dry rotary dryers | Process furnish with a 24-hour block average inlet moisture content of less than or equal to 30 percent (by weight, dry basis); AND operate with a 24-hour block average inlet dryer temperature of less than or equal to 600 °F.
(2) Hardwood veneer dryers | Process less than 30 volume percent softwood species on an annual basis.
(3) Softwood veneer dryers | Minimize fugitive emissions from the dryer doors through (proper maintenance procedures) and the green end of the dryers (through proper balancing of the heated zone exhausts).
(4) Veneer redryers | Process veneer that has been previously dried, such that the 24-hour block average inlet moisture content of the veneer is less than or equal to 25 percent (by weight, dry basis).
(5) Group 1 miscellaneous coating operations | Use non-HAP coatings as defined in § 63.2292.
(6) Process units and control systems undergoing safety-related shutdown on and after August 13, 2021 except as noted in footnote “1” to this table | Follow documented site-specific procedures such as use of automated controls or other measures that you have developed to protect workers and equipment to ensure that the flow of raw materials (such as furnish or resin) and fuel or process heat (as applicable) ceases and that material is removed from the process unit(s) as expeditiously as possible given the system design to reduce air emissions.
(7) Pressurized refiners undergoing startup or shutdown on and after August 13, 2021 except as noted in footnote “1” to this table | Route exhaust gases from the pressurized refiner to its dryer control system no later than 15 minutes after wood is fed to the pressurized refiner during startup. Stop wood flow into the pressurized refiner no more than 15 minutes after wood fiber and exhaust gases from the pressurized refiner stop being routed to the dryer during shutdown.
(8) Direct-fired softwood veneer dryers undergoing startup or shutdown of gas-fired burners on and after August 13, 2021 except as noted in footnote “1” to this table | Cease feeding green veneer into the softwood veneer dryer and minimize the amount of time direct gas-fired softwood veneer dryers are vented to the atmosphere due to the conditions described in § 63.2250(d).
¹ New or reconstructed affected sources that commenced construction or reconstruction after September 6, 2019 must comply with this requirement beginning on August 13, 2020 or upon initial startup, whichever is later.

20. Table 4 to subpart DDDD is revised to read as follows:

Table 4 to Subpart DDDD of Part 63—Requirements for Performance Tests
For . . . | You must . . . | Using . . .
(1) each process unit subject to a compliance option in table 1A or 1B to this subpart or used in calculation of an emissions average under § 63.2240(c) | select sampling port's location and the number of traverse ports | Method 1 or 1A of 40 CFR part 60, appendix A-1 (as appropriate).
(2) each process unit subject to a compliance option in table 1A or 1B to this subpart or used in calculation of an emissions average under § 63.2240(c) | determine velocity and volumetric flow rate | Method 2 in addition to Method 2A, 2C, 2D, 2F, or 2G in appendices A-1 and A-2 to 40 CFR part 60 (as appropriate).
(3) each process unit subject to a compliance option in table 1A or 1B to this subpart or used in calculation of an emissions average under § 63.2240(c) | conduct gas molecular weight analysis | Method 3, 3A, or 3B in appendix A-2 to 40 CFR part 60 (as appropriate).
(4) each process unit subject to a compliance option in table 1A or 1B to this subpart or used in calculation of an emissions average under § 63.2240(c) | measure moisture content of the stack gas | Method 4 in appendix A-3 to 40 CFR part 60; OR Method 320 in appendix A to this part; OR ASTM D6348-03 (IBR, see § 63.14).
(5) each process unit subject to a compliance option in table 1B to this subpart for which you choose to demonstrate compliance using a total HAP as THC compliance option | measure emissions of total HAP as THC | Method 25A in appendix A-7 to 40 CFR part 60. You may measure emissions of methane using EPA Method 18 in appendix A-6 to 40 CFR part 60 and subtract the methane emissions from the emissions of total HAP as THC.
(6) each process unit subject to a compliance option in table 1A to this subpart; OR for each process unit used in calculation of an emissions average under § 63.2240(c) | measure emissions of total HAP (as defined in § 63.2292) | Method 320 in appendix A to this part; OR the NCASI Method IM/CAN/WP-99.02 (IBR, see § 63.14); OR the NCASI Method ISS/FP-A105.01 (IBR, see § 63.14); OR ASTM D6348-03 (IBR, see § 63.14) provided that percent R as determined in Annex A5 of ASTM D6348-03 is equal or greater than 70 percent and less than or equal to 130 percent.
(7) each process unit subject to a compliance option in table 1B to this subpart for which you choose to demonstrate compliance using a methanol compliance option | measure emissions of methanol | Method 308 in appendix A to this part; OR Method 320 in appendix A to this part; OR the NCASI Method CI/WP-98.01 (IBR, see § 63.14); OR the NCASI Method IM/CAN/WP-99.02 (IBR, see § 63.14); OR the NCASI Method ISS/FP-A105.01 (IBR, see § 63.14).
(8) each process unit subject to a compliance option in table 1B to this subpart for which you choose to demonstrate compliance using a formaldehyde compliance option | measure emissions of formaldehyde | Method 316 in appendix A to this part; OR Method 320 in appendix A to this part; OR Method 0011 in “Test Methods for Evaluating Solid Waste, Physical/Chemical Methods” (EPA Publication No. SW-846) for formaldehyde (IBR, see § 63.14); OR the NCASI Method CI/WP-98.01 (IBR, see § 63.14); OR the NCASI Method IM/CAN/WP-99.02 (IBR, see § 63.14); OR the NCASI Method ISS/FP-A105.01 (IBR, see § 63.14).
(9) each reconstituted wood product press at a new or existing affected source or reconstituted wood product board cooler at a new affected source subject to a compliance option in table 1B to this subpart or used in calculation of an emissions average under § 63.2240(c) | meet the design specifications included in the definition of wood products enclosure in § 63.2292; or determine the percent capture efficiency of the enclosure directing emissions to an add-on control device | Methods 204 and 204A through 204F of 40 CFR part 51, appendix M, to determine capture efficiency (except for wood products enclosures as defined in § 63.2292). Enclosures that meet the definition of wood products enclosure or that meet Method 204 requirements for a permanent total enclosure (PTE) are assumed to have a capture efficiency of 100 percent. Enclosures that do not meet either the PTE requirements or design criteria for a wood products enclosure must determine the capture efficiency by constructing a TTE according to the requirements of Method 204 and applying Methods 204A through 204F (as appropriate). As an alternative to Methods 204 and 204A through 204F, you may use the tracer gas method contained in appendix A to this subpart.
(10) each reconstituted wood product press at a new or existing affected source or reconstituted wood product board cooler at a new affected source subject to a compliance option in table 1A to this subpart | determine the percent capture efficiency | a TTE and Methods 204 and 204A through 204F (as appropriate) of 40 CFR part 51, appendix M. As an alternative to installing a TTE and using Methods 204 and 204A through 204F, you may use the tracer gas method contained in appendix A to this subpart. Enclosures that meet the design criteria (1) through (4) in the definition of wood products enclosure, or that meet Method 204 requirements for a PTE (except for the criteria specified in section 6.2 of Method 204) are assumed to have a capture efficiency of 100 percent. Measured emissions divided by the capture efficiency provides the emission rate.
(11) each process unit subject to a compliance option in tables 1A and 1B to this subpart or used in calculation of an emissions average under § 63.2240(c) | establish the site-specific operating requirements (including the parameter limits or THC concentration limits) in table 2 to this subpart | data from the parameter monitoring system or THC CEMS and the applicable performance test method(s).

21. Table 6 to subpart DDDD is revised to read as follows:

Table 6 to Subpart DDDD of Part 63—Initial Compliance Demonstrations for Work Practice Requirements
For each . . . | For the following work practice requirements . . . | You have demonstrated initial compliance if . . .
(1) Dry rotary dryer | Process furnish with an inlet moisture content less than or equal to 30 percent (by weight, dry basis) AND operate with an inlet dryer temperature of less than or equal to 600 °F | You meet the work practice requirement AND you submit a signed statement with the Notification of Compliance Status that the dryer meets the criteria of a “dry rotary dryer” AND you have a record of the inlet moisture content and inlet dryer temperature (as required in § 63.2263).
(2) Hardwood veneer dryer | Process less than 30 volume percent softwood species | You meet the work practice requirement AND you submit a signed statement with the Notification of Compliance Status that the dryer meets the criteria of a “hardwood veneer dryer” AND you have a record of the percentage of softwoods processed in the dryer (as required in § 63.2264).
(3) Softwood veneer dryer | Minimize fugitive emissions from the dryer doors and the green end | You meet the work practice requirement AND you submit with the Notification of Compliance Status a copy of your plan for minimizing fugitive emissions from the veneer dryer heated zones (as required in § 63.2265).
(4) Veneer redryers | Process veneer with an inlet moisture content of less than or equal to 25 percent (by weight, dry basis) | You meet the work practice requirement AND you submit a signed statement with the Notification of Compliance Status that the dryer operates only as a redryer AND you have a record of the veneer inlet moisture content of the veneer processed in the redryer (as required in § 63.2266).
(5) Group 1 miscellaneous coating operations | Use non-HAP coatings as defined in § 63.2292 | You meet the work practice requirement AND you submit a signed statement with the Notification of Compliance Status that you are using non-HAP coatings AND you have a record showing that you are using non-HAP coatings.
(6) Process units and control systems undergoing safety-related shutdown on and after August 13, 2021, except as noted in footnote “1” to this table | Follow documented site-specific procedures to ensure the flow of raw materials and fuel or process heat ceases and that material is removed from the process unit(s) as expeditiously as possible given the system design to reduce air emissions | You meet the work practice requirement AND you have a record of safety-related shutdown procedures available for inspection by the delegated authority upon request.
(7) Pressurized refiners undergoing startup or shutdown on and after August 13, 2021, except as noted in footnote “1” to this table | Route exhaust gases from the pressurized refiner to its dryer control system no later than 15 minutes after wood is fed to the pressurized refiner during startup. Stop wood flow into the pressurized refiner no more than 15 minutes after wood fiber and exhaust gases from the pressurized refiner stop being routed to the dryer during shutdown | You meet the work practice requirement AND you have a record of pressurized refiner startup and shutdown procedures available for inspection by the delegated authority upon request.
(8) Direct-fired softwood veneer dryers undergoing startup or shutdown of gas-fired burners on and after August 13, 2021, except as noted in footnote “1” to this table | Cease feeding green veneer into the softwood veneer dryer and minimize the amount of time direct gas-fired softwood veneer dryers are vented to the atmosphere due to the conditions described in § 63.2250(d) | You meet the work practice requirement AND you have a record of the procedures for startup and shutdown of softwood veneer dryer gas-fired burners available for inspection by the delegated authority upon request.
¹ New or reconstructed affected sources that commenced construction or reconstruction after September 6, 2019 must comply with this requirement beginning on August 13, 2020 or upon initial startup, whichever is later.

22. Table 7 to subpart DDDD is revised to read as follows:

Table 7 to Subpart DDDD of Part 63—Continuous Compliance With the Compliance Options and Operating Requirements
For . . . | For the following compliance options and operating requirements . . . | You must demonstrate continuous compliance by . . .
(1) Each process unit listed in Table 1B to this subpart or used in calculation of an emissions average under § 63.2240(c) | Compliance options in Table 1B to this subpart or the emissions averaging compliance option in § 63.2240(c) and the operating requirements in Table 2 to this subpart based on monitoring of operating parameters | Collecting and recording the operating parameter monitoring system data listed in Table 2 to this subpart for the process unit according to §§ 63.2269(a) through (b) and 63.2270; AND reducing the operating parameter monitoring system data to the specified averages in units of the applicable requirement according to calculations in § 63.2270; AND maintaining the average operating parameter at or above the minimum, at or below the maximum, or within the range (whichever applies) established according to § 63.2262.
(2) Each process unit listed in Tables 1A and 1B to this subpart or used in calculation of an emissions average under § 63.2240(c) | Compliance options in Tables 1A and 1B to this subpart or the emissions averaging compliance option in § 63.2240(c) and the operating requirements in Table 2 to this subpart based on THC CEMS data | Collecting and recording the THC monitoring data listed in Table 2 to this subpart for the process unit according to § 63.2269(d); AND reducing the CEMS data to 3-hour block averages according to calculations in § 63.2269(d); AND maintaining the 3-hour block average THC concentration in the exhaust gases less than or equal to the THC concentration established according to § 63.2262.
(3) Each process unit using a biofilter | Compliance options in Tables 1B to this subpart or the emissions averaging compliance option in § 63.2240(c) | Conducting a repeat performance test using the applicable method(s) specified in Table 4 to this subpart ¹ within 2 years following the previous performance test and within 180 days after each replacement of any portion of the biofilter bed media with a different type of media or each replacement of more than 50 percent (by volume) of the biofilter bed media with the same type of media.
(4) Each process unit using a catalytic oxidizer | Compliance options in Table 1B to this subpart or the emissions averaging compliance option in § 63.2240(c) | Checking the activity level of a representative sample of the catalyst at least annually ² and taking any necessary corrective action to ensure that the catalyst is performing within its design range.
(5) Each process unit listed in Table 1A to this subpart, or each process unit without a control device used in calculation of an emissions averaging debit under § 63.2240(c) | Compliance options in Table 1A to this subpart or the emissions averaging compliance option in § 63.2240(c) and the operating requirements in Table 2 to this subpart based on monitoring of process unit controlling operating parameters | Collecting and recording on a daily basis process unit controlling operating parameter data; AND maintaining the operating parameter at or above the minimum, at or below the maximum, or within the range (whichever applies) established according to § 63.2262.
(6) Each Process unit listed in Table 1B to this subpart using a wet control device as the sole means of reducing HAP emissions | Compliance options in Table 1B to this subpart or the emissions averaging compliance option in § 63.2240(c) | Implementing your plan to address how organic HAP captured in the wastewater from the wet control device is contained or destroyed to minimize re-release to the atmosphere.
(7) Each process unit listed in Table 1B to this subpart using a control device other than a biofilter | Compliance options in Tables 1B to this subpart | Conducting a repeat performance test using the applicable method(s) specified in Table 4 to this subpart ¹ by August 13, 2023 or within 60 months following the previous performance test, whichever is later, and thereafter within 60 months following the previous performance test.
¹ When conducting a repeat performance test, the capture efficiency demonstration required in Table 4 to this subpart, row 9 is not required to be repeated with the repeat emissions test if the capture device is maintained and operated consistent with its design as well as its operation during the previous capture efficiency demonstration conducted according to Table 4 to this subpart, row 9 as specified in § 63.2267.
² You may forego the annual catalyst activity check during the calendar year when a performance test is conducted according to Table 4 to this subpart.

23. Table 8 to subpart DDDD is revised to read as follows:

Table 8 to Subpart DDDD of Part 63—Continuous Compliance With the Work Practice Requirements
For . . . | For the following work practice requirements . . . | You must demonstrate continuous compliance by . . .
(1) Dry rotary dryer | Process furnish with an inlet moisture content less than or equal to 30 percent (by weight, dry basis) AND operate with an inlet dryer temperature of less than or equal to 600 °F | Maintaining the 24-hour block average inlet furnish moisture content at less than or equal to 30 percent (by weight, dry basis) AND maintaining the 24-hour block average inlet dryer temperature at less than or equal to 600 °F; AND keeping records of the inlet temperature of furnish moisture content and inlet dryer temperature.
(2) Hardwood veneer dryer | Process less than 30 volume percent softwood species | Maintaining the volume percent softwood species processed below 30 percent AND keeping records of the volume percent softwood species processed.
(3) Softwood veneer dryer | Minimize fugitive emissions from the dryer doors and the green end | Following (and documenting that you are following) your plan for minimizing fugitive emissions.
(4) Veneer redryers | Process veneer with an inlet moisture content of less than or equal to 25 percent (by weight, dry basis) | Maintaining the 24-hour block average inlet moisture content of the veneer processed at or below of less than or 25 percent AND keeping records of the inlet moisture content of the veneer processed.
(5) Group 1 miscellaneous coating operations | Use non-HAP coatings as defined in § 63.2292 | Continuing to use non-HAP coatings AND keeping records showing that you are using non-HAP coatings.
(6) Process units and control systems undergoing safety-related shutdown on and after August 13, 2021, except as noted in footnote “1” to this table | Follow documented site-specific procedures to ensure the flow of raw materials and fuel or process heat ceases and that material is removed from the process unit(s) as expeditiously as possible given the system design to reduce air emissions | Keeping records showing that you are following the work practice requirements during safety-related shutdowns.
(7) Pressurized refiners undergoing startup or shutdown on and after August 13, 2021, except as noted in footnote “1” to this table | Route exhaust gases from the pressurized refiner to its dryer control system no later than 15 minutes after wood is fed to the pressurized refiner during startup. Stop wood flow into the pressurized refiner no more than 15 minutes after wood fiber and exhaust gases from the pressurized refiner stop being routed to the dryer during shutdown. | Keeping records showing that you are following the work practice requirements during pressurized refiner startup and shutdown events.
(8) Direct-fired softwood veneer dryers undergoing startup or shutdown of gas-fired burners on and after August 13, 2021, except as noted in footnote “1” to this table | Cease feeding green veneer into the softwood veneer dryer and minimize the amount of time direct gas-fired softwood veneer dryers are vented to the atmosphere due to the conditions described in § 63.2250(d) | Keeping records showing that you are following the work practice requirements while undergoing startup or shutdown of softwood veneer dryer direct gas-fired burners.
¹ New or reconstructed affected sources that commenced construction or reconstruction after September 6, 2019 must comply with this requirement beginning on August 13, 2020 or upon initial startup, whichever is later.

24. Table 9 to subpart DDDD is revised to read as follows:

Table 9 to Subpart DDDD of Part 63—Requirements for Reports
You must submit a(n) . . . | The report must contain . . . | You must submit the report . . .
(1) Compliance report | The information in § 63.2281(c) through (g) | Semiannually according to the requirements in § 63.2281(b).
(2) Immediate startup, shutdown, and malfunction report if you had a startup, shutdown, or malfunction during the reporting period that is not consistent with your SSMP before August 13, 2021.¹ | (i) Actions taken for the event (ii) The information in § 63.10(d)(5)(ii) | By fax or telephone within 2 working days after starting actions inconsistent with the plan. By letter within 7 working days after the end of the event unless you have made alternative arrangements with the permitting authority.
(3) Performance test report | The information required in § 63.7(g) | According to the requirements of § 63.2281(i).
(4) CMS performance evaluation, as required for CEMS under § 63.2269(d)(2) | The information required in § 63.7(g) | According to the requirements of § 63.2281(j).
¹ The requirement for the SSM report in row 2 of this table does not apply for new or reconstructed affected sources that commenced construction or reconstruction after September 6, 2019.

25. Table 10 to subpart DDDD is revised to read as follows:

Table 10 to Subpart DDDD of Part 63—Applicability of General Provisions to This Subpart
Citation | Subject | Brief description | Applies to this subpart before August 13, 2021, except as noted in footnote “1” to this table | Applies to this subpart on and after August 13, 2021, except as noted in footnote “1” to this table
§ 63.1 | Applicability | Initial applicability determination; applicability after standard established; permit requirements; extensions, notifications | Yes | Yes.
§ 63.2 | Definitions | Definitions for standards in this part | Yes | Yes.
§ 63.3 | Units and Abbreviations | Units and abbreviations for standards in this part | Yes | Yes.
§ 63.4 | Prohibited Activities and Circumvention | Prohibited activities; compliance date; circumvention, fragmentation | Yes | Yes.
§ 63.5 | Preconstruction Review and Notification Requirements | Preconstruction review requirements of section 112(i)(1) | Yes | Yes.
§ 63.6(a) | Applicability | GP apply unless compliance extension; GP apply to area sources that become major | Yes | Yes.
§ 63.6(b)(1)-(4) | Compliance Dates for New and Reconstructed Sources | Standards apply at effective date; 3 years after effective date; upon startup; 10 years after construction or reconstruction commences for section 112(f) | Yes | Yes.
§ 63.6(b)(5) | Notification | Must notify if commenced construction or reconstruction after proposal | Yes | Yes.
§ 63.6(b)(6) | [Reserved]
§ 63.6(b)(7) | Compliance Dates for New and Reconstructed Area Sources that Become Major | Area sources that become major must comply with major source standards immediately upon becoming major, regardless of whether required to comply when they were an area source | Yes | Yes.
§ 63.6(c)(1)-(2) | Compliance Dates for Existing Sources | Comply according to date in subpart, which must be no later than 3 years after effective date; for section 112(f) standards, comply within 90 days of effective date unless compliance extension | Yes | Yes.
§ 63.6(c)(3)-(4) | [Reserved]
§ 63.6(c)(5) | Compliance Dates for Existing Area Sources that Become Major | Area sources that become major must comply with major source standards by date indicated in subpart or by equivalent time period (e.g., 3 years) | Yes | Yes.
§ 63.6(d) | [Reserved]
§ 63.6(e)(1)(i) | General Duty to Minimize Emissions | You must operate and maintain affected source in a manner consistent with safety and good air pollution control practices for minimizing emissions | Yes | No, see § 63.2250 for general duty requirement.
§ 63.6(e)(1)(ii) | Requirement to Correct Malfunctions ASAP | You must correct malfunctions as soon as practicable after their occurrence | Yes | No.
§ 63.6(e)(1)(iii) | Operation and Maintenance Requirements | Operation and maintenance requirements are enforceable independent of emissions limitations or other requirements in relevant standards | Yes | Yes.
§ 63.6(e)(2) | [Reserved]
§ 63.6(e)(3) | Startup, Shutdown, and Malfunction Plan (SSMP) | Requirement for SSM and SSMP; content of SSMP | Yes | No.
§ 63.6(f)(1) | SSM Exemption | You must comply with emission standards at all times except during SSM | No. See § 63.2250(a) | No.
§ 63.6(f)(2)-(3) | Methods for Determining Compliance/Finding of Compliance | Compliance based on performance test, operation and maintenance plans, records, inspection | Yes | Yes.
§ 63.6(g)(1)-(3) | Alternative Standard | Procedures for getting an alternative standard | Yes | Yes.
§ 63.6(h)(1) | SSM Exemption | You must comply with opacity and visible emission standards at all times except during SSM | NA | No.
§ 63.6(h)(2)-(9) | Opacity/Visible Emission (VE) Standards | Requirements for opacity and visible emission standards | NA | NA.
§ 63.6(i)(1)-(14) | Compliance Extension | Procedures and criteria for Administrator to grant compliance extension | Yes | Yes.
§ 63.6(i)(15) | [Reserved]
§ 63.6(i)(16) | Compliance Extension | Compliance extension and Administrator's authority | Yes | Yes.
§ 63.6(j) | Presidential Compliance Exemption | President may exempt source category from requirement to comply with rule | Yes | Yes.
§ 63.7(a)(1)-(2) | Performance Test Dates | Dates for conducting initial performance testing and other compliance demonstrations; must conduct 180 days after first subject to rule | Yes | Yes.
§ 63.7(a)(3) | Section 114 Authority | Administrator may require a performance test under CAA section 114 at any time | Yes | Yes.
§ 63.7(b)(1) | Notification of Performance Test | Must notify Administrator 60 days before the test | Yes | Yes.
§ 63.7(b)(2) | Notification of Rescheduling | If have to reschedule performance test, must notify Administrator as soon as practicable | Yes | Yes.
§ 63.7(c) | Quality Assurance/Test Plan | Requirement to submit site-specific test plan 60 days before the test or on date Administrator agrees with; test plan approval procedures; performance audit requirements; internal and external QA procedures for testing | Yes | Yes.
§ 63.7(d) | Testing Facilities | Requirements for testing facilities | Yes | Yes.
§ 63.7(e)(1) | Performance Testing | Performance tests must be conducted under representative conditions; cannot conduct performance tests during SSM; not a violation to exceed standard during SSM | Yes | No, see § 63.2262(a)-(b).
§ 63.7(e)(2) | Conditions for Conducting Performance Tests | Must conduct according to rule and EPA test methods unless Administrator approves alternative | Yes | Yes.
§ 63.7(e)(3) | Test Run Duration | Must have three test runs for at least the time specified in the relevant standard; compliance is based on arithmetic mean of three runs; specifies conditions when data from an additional test run can be used | Yes | Yes.
§ 63.7(f) | Alternative Test Method | Procedures by which Administrator can grant approval to use an alternative test method | Yes | Yes.
§ 63.7(g) | Performance Test Data Analysis | Must include raw data in performance test report; must submit performance test data 60 days after end of test with the notification of compliance status; keep data for 5 years | Yes | Yes.
§ 63.7(h) | Waiver of Tests | Procedures for Administrator to waive performance test | Yes | Yes.
§ 63.8(a)(1) | Applicability of Monitoring Requirements | Subject to all monitoring requirements in standard | Yes | Yes.
§ 63.8(a)(2) | Performance Specifications | Performance specifications in appendix B of part 60 of this chapter apply | Yes | Yes.
§ 63.8(a)(3) | [Reserved]
§ 63.8(a)(4) | Monitoring with Flares | Requirements for flares in § 63.11 apply | NA | NA.
§ 63.8(b)(1) | Monitoring | Must conduct monitoring according to standard unless Administrator approves alternative | Yes | Yes.
§ 63.8(b)(2)-(3) | Multiple Effluents and Multiple Monitoring Systems | Specific requirements for installing monitoring systems; must install on each effluent before it is combined and before it is released to the atmosphere unless Administrator approves otherwise; if more than one monitoring system on an emission point, must report all monitoring system results, unless one monitoring system is a backup | Yes | Yes.
§ 63.8(c)(1) | Monitoring System Operation and Maintenance | Maintain monitoring system in a manner consistent with and good air pollution control practices | Yes | Yes.
§ 63.8(c)(1)(i) | Operation and Maintenance of CMS | Must maintain and operate CMS in accordance with § 63.6(e)(1) | Yes | No.
§ 63.8(c)(1)(ii) | Spare Parts for CMS | Must maintain spare parts for routine CMS repairs | Yes | Yes.
§ 63.8(c)(1)(iii) | Requirements to Develop SSMP for CMS | Must develop and implement SSMP for CMS | Yes | No.
§ 63.8(c)(2)-(3) | Monitoring System Installation | Must install to get representative emission of parameter measurements; must verify operational status before or at performance test | Yes | Yes.
§ 63.8(c)(4) | CMS Requirements | CMS must be operating except during breakdown, out-of-control, repair, maintenance, and high-level calibration drifts; COMS must have a minimum of one cycle of sampling and analysis for each successive 10-second period and one cycle of data recording for each successive 6-minute period; CEMS must have a minimum of one cycle of operation for each successive 15-minute period | Yes | Yes.
§ 63.8(c)(5) | Continuous Opacity Monitoring System (COMS) Minimum Procedures | COMS minimum procedures | NA | NA.
§ 63.8(c)(6)-(8) | CMS Requirements | Zero and high-level calibration check requirements; out-of-control periods | Yes | Yes.
§ 63.8(d)(1)-(2) | CMS Quality Control | Requirements for CMS quality control, including calibration, etc. | Yes. Refer to § 63.2269(a)-(c) for CPMS quality control procedures to be included in the quality control program | Yes. Refer to § 63.2269(a)-(c) for CPMS quality control procedures to be included in the quality control program.
§ 63.8(d)(3) | Written Procedures for CMS | Must keep quality control plan on record for 5 years. Keep old versions for 5 years after revisions. May incorporate as part of SSMP to avoid duplication. | Yes | No, see § 63.2282(f).
§ 63.8(e) | CMS Performance Evaluation | Notification, performance evaluation test plan, reports | Yes, for CEMS | Yes, for CEMS.
§ 63.8(f)(1)-(5) | Alternative Monitoring Method | Procedures for Administrator to approve alternative monitoring | Yes | Yes.
§ 63.8(f)(6) | Alternative to Relative Accuracy Test | Procedures for Administrator to approve alternative relative accuracy tests for CEMS | Yes, for CEMS | Yes, for CEMS.
§ 63.8(g) | Data Reduction | COMS 6-minute averages calculated over at least 36 evenly spaced data points; CEMS 1 hour averages computed over at least 4 equally spaced data points; data that can't be used in average; rounding of data | Yes | Yes.
§ 63.9(a) | Notification Requirements | Applicability and State delegation | Yes | Yes.
§ 63.9(b)(1)-(2) | Initial Notifications | Submit notification 120 days after effective date; contents of notification | Yes | Yes.
§ 63.9(b)(3) | [Reserved]
§ 63.9(b)(4)-(5) | Initial Notifications | Submit notification 120 days after effective date; notification of intent to construct/reconstruct; notification of commencement of construct/reconstruct; notification of startup; contents of each | Yes | Yes.
§ 63.9(c) | Request for Compliance Extension | Can request if cannot comply by date or if installed best available control technology/lowest achievable emission rate | Yes | Yes.
§ 63.9(d) | Notification of Special Compliance Requirements for New Source | For sources that commence construction between proposal and promulgation and want to comply 3 years after effective date | Yes | Yes.
§ 63.9(e) | Notification of Performance Test | Notify EPA Administrator 60 days prior | Yes | Yes.
§ 63.9(f) | Notification of Visible Emissions/Opacity Test | Notify EPA Administrator 30 days prior | No | No.
§ 63.9(g) | Additional Notifications When Using CMS | Notification of performance evaluation; notification using COMS data; notification that exceeded criterion for relative accuracy | Yes | Yes.
§ 63.9(h)(1)-(6) | Notification of Compliance Status | Contents; due 60 days after end of performance test or other compliance demonstration, except for opacity/VE, which are due 30 days after; when to submit to Federal vs. State authority | Yes | Yes.
§ 63.9(i) | Adjustment of Submittal Deadlines | Procedures for Administrator to approve change in when notifications must be submitted | Yes | Yes.
§ 63.9(j) | Change in Previous Information | Must submit within 15 days after the change | Yes | Yes.
§ 63.10(a) | Recordkeeping/Reporting | Applies to all, unless compliance extension; when to submit to Federal vs. State authority; procedures for owners of more than one source | Yes | Yes.
§ 63.10(b)(1) | Recordkeeping/Reporting | General Requirements; keep all records readily available; keep for 5 years | Yes | Yes.
§ 63.10(b)(2)(i) | Recordkeeping of Occurrence and Duration of Startups and Shutdowns | Records of occurrence and duration of each startup or shutdown that causes source to exceed emission limitation | Yes | No, see § 63.2282(a).
§ 63.10(b)(2)(ii) | Recordkeeping of Failures to Meet a Standard | Records of occurrence and duration of each malfunction of operation or air pollution control and monitoring equipment | Yes | No, see § 63.2282(a) for recordkeeping of (1) date, time and duration; (2) listing of affected source or equipment, and an estimate of the quantity of each regulated pollutant emitted over the standard; and (3) actions to minimize emissions and correct the failure.
§ 63.10(b)(2)(iii) | Maintenance Records | Records of maintenance performed on air pollution control and monitoring equipment | Yes | Yes.
§ 63.10(b)(2)(iv)-(v) | Actions Taken to Minimize Emissions During SSM | Records of actions taken during SSM to minimize emissions | Yes | No.
§ 63.10(b)(2)(vi) and (x)-(xi) | CMS Records | Malfunctions, inoperative, out-of-control | Yes | Yes.
§ 63.10(b)(2)(vii)-(ix) | Records | Measurements to demonstrate compliance with compliance options and operating requirements; performance test, performance evaluation, and visible emission observation results; measurements to determine conditions of performance tests and performance evaluations | Yes | Yes.
§ 63.10(b)(2)(xii) | Records | Records when under waiver | Yes | Yes.
§ 63.10(b)(2)(xiii) | Records | Records when using alternative to relative accuracy test | Yes | Yes.
§ 63.10(b)(2)(xiv) | Records | All documentation supporting initial notification and notification of compliance status | Yes | Yes.
§ 63.10(b)(3) | Records | Applicability determinations | Yes | Yes.
§ 63.10(c)(1)-(6), (9)-(14) | Records | Additional records for CMS | Yes | Yes.
§ 63.10(c)(7)-(8) | Records | Records of excess emissions and parameter monitoring exceedances for CMS | No | No.
§ 63.10(c)(15) | Use of SSMP | Use SSMP to satisfy recordkeeping requirements for identification of malfunction, correction action taken, and nature of repairs to CMS | Yes | No.
§ 63.10(d)(1) | General Reporting Requirements | Requirement to report | Yes | Yes.
§ 63.10(d)(2) | Report of Performance Test Results | When to submit to Federal or State authority | Yes | Yes.
§ 63.10(d)(3) | Reporting Opacity or VE Observations | What to report and when | NA | NA.
§ 63.10(d)(4) | Progress Reports | Must submit progress reports on schedule if under compliance extension | Yes | Yes.
§ 63.10(d)(5)(i) | Periodic SSM Reports | Contents and submission of periodic SSM reports | Yes | No, see § 63.2281(d)-(e) for malfunction reporting requirements.
§ 63.10(d)(5)(ii) | Immediate SSM Reports | Contents and submission of immediate SSM reports | Yes | No.
§ 63.10(e)(1)-(2) | Additional CMS Reports | Must report results for each CEM on a unit; written copy of performance evaluation; 3 copies of COMS performance evaluation | Yes | Yes.
§ 63.10(e)(3) | Reports | Excess emission reports | No | No.
§ 63.10(e)(4) | Reporting COMS Data | Must submit COMS data with performance test data | NA | NA.
§ 63.10(f) | Waiver for Recordkeeping/Reporting | Procedures for EPA Administrator to waive | Yes | Yes.
§ 63.11 | Control Device and Work Practice Requirements | Requirements for flares and alternative work practice for equipment leaks | NA | NA.
§ 63.12 | State Authority and Delegations | State authority to enforce standards | Yes | Yes.
§ 63.13 | Addresses | Addresses where reports, notifications, and requests are sent | Yes | Yes.
§ 63.14 | Incorporations by Reference | Test methods incorporated by reference | Yes | Yes.
§ 63.15 | Availability of Information and Confidentiality | Public and confidential information | Yes | Yes.
§ 63.16 | Performance Track Provisions | Requirements for Performance Track member facilities | Yes | Yes.
¹ New or reconstructed affected sources that commenced construction or reconstruction after September 6, 2019 must comply with the requirements in column 5 of this table beginning on August 13, 2020 or upon initial startup, whichever is later.

[FR Doc. 2020-12725 Filed 8-12-20; 8:45 am]

BILLING CODE 6560-50-P